DEPARTMENT OF HOUSING AND URBAN DEVELOPMENT

[Docket No. FR-4644-N-32]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Ms. Shirley Middleswarth, Army Corps of Engineers, Management & Disposal Division, 441 G Street, Washington, DC 20314-1000; (202) 761-7425; DOT: Mr. Rugene Spruill, Space Management, SVC-140, Transportation Administrative Service Center, Department of Transportation, 400 7th Street, SW., Room 2310, Washington, DC 20590; (202) 366-4246; ENERGY: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; INTERIOR: Ms. Linda Tribby, Acquisition & Property Management, Department of the Interior, 1849 C Street, NW, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: August 3, 2001.
John D. Garrity,
Director, Office of Special Needs Assistance Programs.

TITLE V, FEDERAL SURPLUS PROPERTY PROGRAM FEDERAL REGISTER REPORT FOR 8/10/01

Suitable/Available Properties

Buildings (by State)

Alaska

Bethel Army Advisor Housing

450 Katie Hately Lane

Blueberry Field Subdivision

Bethel Co: AK 99559-

Landholding Agency: GSA

Property Number: 54200130004

Status: Excess

Comment: 1448 sq. ft. family residence w/shed and greenhouse, condition—unknown

GSA Number: 9-D-AK-769

Bethel Army Advisor Housing

150 Cranberry Lane

Blueberry Field Subdivision

Bethel Co: AK 99559-

Landholding Agency: GSA

Property Number: 54200130005

Status: Excess

Comment: 1508 sq. ft. residence

GSA Number: 9-D-AK-770

Nome Army Advisor Housing

972 East 3rd Ave.

Nome Co: AK 99762-

Landholding Agency: GSA

Property Number: 54200130006

Status: Excess

Comment: 3200 sq. ft. residential duplex

GSA Number: 9-D-AK-766

Bldg. 747

USCG Integrated Support Command

Nemetz Housing

Kodiak Co: AK 99615-

Landholding Agency: DOT

Property Number: 87200110001

Status: Excess

Comment: 4-plex, needs repair, presence of asbestos/lead paint, most recent use—residential, off-site use only

Bldg. 750

USCG Integrated Support Command

Nemetz Housing

Kodiak Co: AK 99615-

Landholding Agency: DOT

Property Number: 87200110002

Status: Excess

Comment: 4-plex, needs repair, presence of asbestos/lead paint, most recent use—residential, off-site use only

Bldg. 751

USCG Integrated Support Command

Nemetz Housing

Kodiak Co: AK 99615-

Landholding Agency: DOT

Property Number: 87200110003

Status: Excess

Comment: 4-plex, needs repair, presence of asbestos/lead paint, most recent use—residential, off-site use only

Bldg. 752

USCG Integrated Support Command

Nemetz Housing

Kodiak Co: AK 99615-

Landholding Agency: DOT

Property Number: 87200110004

Status: Excess

Comment: 4-plex, needs repair, presence of asbestos/lead paint, most recent use—residential, off-site use only

Bldg. 753

USCG Integrated Support Command

Nemetz Housing

Kodiak Co: AK 99615-

Landholding Agency: DOT

Property Number: 87200110005

Status: Excess

Comment: 4-plex, needs repair, presence of asbestos/lead paint, most recent use—residential, off-site use only

Bldg. 754

USCG Integrated Support Command

Nemetz Housing

Kodiak Co: AK 99615-

Landholding Agency: DOT

Property Number: 87200110006

Status: Excess

Comment: 4-plex, needs repair, presence of asbestos/lead paint, most recent use—residential, off-site use only

Bldg. 755

USCG Integrated Support Command

Nemetz Housing

Kodiak Co: AK 99615-

Landholding Agency: DOT

Property Number: 87200110007

Status: Excess

Comment: 4-plex, needs repair, presence of asbestos/lead paint, most recent use—residential, off-site use only

Bldg. 759

USCG Integrated Support Command

Nemetz Housing

Kodiak Co: AK 99615-

Landholding Agency: DOT

Property Number: 87200110008

Status: Excess

Comment: 4-plex, needs repair, presence of asbestos/lead paint, most recent use—residential, off-site use only

Bldg. 736

CG Integrated Support Command

Kodiak Co: AK 99615-

Landholding Agency: DOT

Property Number: 87200110026

Status: Excess

Comment: 6912 sq. ft., presence of asbestos/lead paint, most recent use—residential, off-site use only

Bldg. 738

CG Integrated Support Command

Kodiak Co: AK 99615-

Landholding Agency: DOT

Property Number: 87200110027

Status: Excess

Comment: 5336 sq. ft., presence of asbestos/lead paint, most recent use—residential, off-site use only

Bldg. 740

CG Integrated Support Command

Kodiak Co: AK 99615-

Landholding Agency: DOT

Property Number: 87200110028

Status: Excess

Comment: 6912 sq. ft., presence of asbestos/lead paint, most recent use—residential, off-site use only

Bldg. 745

CG Integrated Support Command

Kodiak Co: AK 99615-

Landholding Agency: DOT

Property Number: 87200110029

Status: Excess

Comment: 5336 sq. ft., presence of asbestos/lead paint, most recent use—residential, off-site use only

Bldg. 746

CG Integrated Support Command

Kodiak Co: AK 99615-

Landholding Agency: DOT

Property Number: 87200110030

Status: Excess

Comment: 5336 sq. ft., presence of asbestos/lead paint, most recent use—residential, off-site use only

Bldg. 748

CG Integrated Support Command

Kodiak Co: AK 99615-

Landholding Agency: DOT

Property Number: 87200110031

Status: Excess

Comment: 5336 sq. ft., presence of asbestos/lead paint, most recent use—residential, off-site use only

Bldg. 761

CG Integrated Support Command

Kodiak Co: AK 99615-

Landholding Agency: DOT

Property Number: 87200110032

Status: Excess

Comment: 6912 sq. ft., presence of asbestos/lead paint, most recent use—residential, off-site use only

Bldg. 762

CG Integrated Support Command

Kodiak Co: AK 99615-

Landholding Agency: DOT

Property Number: 87200110033

Status: Excess

Comment: 6912 sq. ft., presence of asbestos/lead paint, most recent use—residential, off-site use only

Bldg. 763

CG Integrated Support Command

Kodiak Co: AK 99615-

Landholding Agency: DOT

Property Number: 87200110034

Status: Excess

Comment: 6912 sq. ft., presence of asbestos/lead paint, most recent use—residential, off-site use only

Bldg. 770

CG Integrated Support Command

Kodiak Co: AK 99615-

Landholding Agency: DOT

Property Number: 87200110035

Status: Excess

Comment: 6912 sq. ft., presence of asbestos/lead paint, most recent use—residential, off-site use only

Arizona

Federal Building

26 North MacDonald St.

Messa Co: AZ 85201-

Landholding Agency: GSA

Property Number: 4520013007

Status: Excess

Comment: Total of 21027 gross sq. ft., 19706 rentable sq. ft. and 10352 occupiable sq. ft., w/paved parking, possible asbestos, potential for listing on National Register

GSA Number: 9-G-AZ-823

SSA Federal Bldg.

216 South Cortez St.

Prescott Co: AZ 86303-

Landholding Agency: GSA

Property Number: 4520013008

Status: Excess

Comment: 5306 gross sq. ft., 5088 rentable sq. ft., 4128 useable sq. ft., possible asbestos

GSA Number: 9-G-AZ-822

California

Bldg. 4151

8006 Bill's Hill

Yosemite Co: Mariposa CA 95389-

Landholding Agency: Interior

Property Number: 61200130001

Status: Unutilized

Comment: 560 sq. ft., seasonal housing, presence of lead paint, off-site use only

Bldg. 2317

2123 Enderts Beach Rd.

Crescent City Co: Del Norte CA 95531-

Landholding Agency: Interior

Property Number: 61200130002

Status: Excess

Comment: 1100 sq. ft., poor condition, most recent use—residence, off-site use only

Bldg. 2318

2123 Enderts Beach Rd.

Crescent City Co: Del Norte CA 95531-

Landholding Agency: Interior

Property Number: 61200130003

Status: Excess

Comment: 150 sq. ft., off-site use only

Florida

Lexington Terrace Housing

Portion of NAS Pensacola

Old Corry Field Rd.

Pensacola Co: Excambia FL 32508-

Landholding Agency: GSA

Property Number: 4520013009

Status: Surplus

Comment: 198 individual housing units, approximately 400 to 800 sq. ft. per unit, presence of lead base paint, potential electric power

GSA Number: 4-N-FL-0735

Indiana

Radio Tower

Myers Locks & Dam Project

Mt. Vernon Co: IN 47620-

Landholding Agency: COE

Property Number: 31200040002

Status: Excess

Comment: communication, off-site use only

Radio Tower

C.M. Harden Project

Rockville Co: IN 47872-

Landholding Agency: COE

Property Number: 31200040005

Status: Excess

Comment: communication, off-site use only

Radio Tower

Mississinewa Lake Project

Peru Co: IN 46970-

Landholding Agency: COE

Property Number: 31200040006

Status: Excess

Comment: communication, off-site use only

Radio Tower

Patoka Lake Project

Birdseye Co: IN 46970-

Landholding Agency: COE

Property Number: 31200040007

Status: Excess

Comment: communication, off-site use only

Kentucky

Green River Lock & Dam #3

Rochester Co: Butler KY 42273-

Location: SR 70 west from Morgantown, KY., approximately 7 miles to site

Landholding Agency: COE

Property Number: 31199010022

Status: Unutilized

Comment: 980 sq. ft.; 2 story wood frame; two story residence; potential utilities; needs major rehab

Kentucky River Lock and Dam 3

Pleasureville Co: Henry KY 40057-

Location: SR 421 North from Frankfort, KY. to highway 561, right on 561 approximately 3 miles to site

Landholding Agency: COE

Property Number: 31199010060

Status: Unutilized

Comment: 897 sq. ft.; 2 story wood frame; structural deficiencies

Bldg. 1

Kentucky River Lock and Dam

Carrolton Co: Carroll KY 41008-

Location: Take I-71 to Carrolton, KY exit, go east on SR #227 to Highway 320, then left for about 1.5 miles to site

Landholding Agency: COE

Property Number: 31199011628

Status: Unutilized

Comment: 1530 sq. ft.; 2 story wood frame house; subject to periodic flooding; needs rehab

Bldg. 2

Kentucky River Lock and Dam

Carrolton Co: Carroll KY 41008-

Location: Take I-71 to Carrolton, KY exit, go east on SR #227 to highway 320, then left for about 1.5 miles to site

Landholding Agency: COE

Property Number: 31199011629

Status: Unutilized

Comment: 1530 sq. ft.; 2 story wood frame house; subject to periodic flooding; needs rehab

Utility Bldg, Nolin River Lake

Moutardier Recreation Site

Co: Edmonson KY

Landholding Agency: COE

Property Number: 31199320002

Status: Unutilized

Comment: 541 sq. ft., concrete block, off-site use only

Maryland

Bldg. 9

Coast Guard Yard

2401 Hawkins Point Rd.

Baltimore Co: MD 21226-

Landholding Agency: DOT

Property Number: 87200110013

Status: Excess

Comment: 5250 sq. ft. bowling center, off-site use only

Bldg. 21

Coast Guard Yard

2401 Hawkins Point Rd.

Baltimore Co: MD 21226-

Landholding Agency: DOT

Property Number: 87200110014

Status: Excess

Comment: 8100 sq. ft. storage shed, off-site use only

Bldg. 23

Coast Guard Yard

2401 Hawkins Point Rd.

Baltimore Co: MD 21226-

Landholding Agency: DOT

Property Number: 87200110015

Status: Excess

Comment: 8100 sq. ft. storage shed, off-site use only

Bldg. 52

Coast Guard Yard

2401 Hawkins Point Rd.

Baltimore Co: MD 21226-

Landholding Agency: DOT

Property Number: 87200110016

Status: Excess

Comment: 1560 sq. ft. storage shed, off-site use only

Bldg. 57

Coast Guard Yard

2401 Hawkins Point Rd.

Baltimore Co: MD 21226-

Landholding Agency: DOT

Property Number: 87200110017

Status: Excess

Comment: 800 sq. ft.storage shed, off-site use only

Massachusetts

Storage Bldg.

Knightville Dam Road

Huntington Co: Hampshire MA 01050-

Landholding Agency: COE

Property Number: 31200030005

Status: Unutilized

Comment: 480 sq. ft., needs rehab, off-site use only

Mississippi

Quarters #162

Natchez Trace Pkwy

162 Trace Circle

Ridgeland Co: Madison MS 39157-

Landholding Agency: Interior

Property Number: 61200110001

Status: Excess

Comment: 1121 sq. ft., presence of asbestos, most recent use—residential, off-site use only

Quarters #167

Natchez Trace Pkwy

Rt. 1, Box 46A

Port Gibson Co: Claiborne MS 39150-

Landholding Agency: Interior

Property Number: 61200110002

Status: Excess

Comment: 1415 sq. ft., presence of asbestos, most recent use—residential, off-site use only

Quarters #257

Natchez Trace Pkwy

Star Route Box 14

Carlisle Co: Claiborne MS 39049-

Landholding Agency: Interior

Property Number: 61200110003

Status: Excess

Comment: 1415 sq. ft., presence of asbestos, most recent use—residential, off-site use only

Quarters #182

182 Natchez Trace Pkwy

Kosciusko Co: Atalla MS 39090-

Landholding Agency: Interior

Property Number: 61200110004

Status: Excess

Comment: 1121 sq. ft., presence of asbestos, most recent use—residential, off-site use only

Quarters #197

Natchez Trace Pkwy

Rt. 1

Mantee Co: Chickasaw MS 39751-

Landholding Agency: Interior

Property Number: 61200110005

Status: Excess

Comment: 1121 sq. ft., presence of asbestos, most recent use—residential, off-site use only

Montana

Bldg. 1

Butte Natl Guard

Butte Co: Silverbow MT 59701-

Landholding Agency: COE

Property Number: 31200040010

Status: Unutilized

Comment: 22799 sq. ft., presence of asbestos, most recent use—cold storage, off-site use only

Bldg. 2

Butte Natl Guard

Butte Co: Silverbow MT 59701-

Landholding Agency: COE

Property Number: 31200040011

Status: Unutilized

Comment: 3292 sq. ft., most recent use—cold storage, off-site use only

Bldg. 3

Butte Natl Guard

Butte Co: Silverbow MT 59701-

Landholding Agency: COE

Property Number: 31200040012

Status: Unutilized

Comment: 964 sq. ft., most recent use—cold storage, off-site use only

Bldg. 4

Butte Natl Guard

Butte Co: Silverbow MT 59701-

Landholding Agency: COE

Property Number: 31200040013

Status: Unutilized

Comment: 72 sq. ft., most recent use—cold storage, off-site use only

Bldg. 5

Butte Natl Guard

Butte Co: Silverbow MT 59701-

Landholding Agency: COE

Property Number: 31200040014

Status: Unutilized

Comment: 1286 sq. ft., most recent use—cold storage, off-site use only

New Mexico

Tract #101-23

Blair Property

Aztec Ruins Natl Monument

Aztec Co: San Juan NM 87410-

Location: Mobile Home, 604 Ruins Rd.

Landholding Agency: Interior

Property Number: 61200120024

Status: Excess

Comment: 14 x 70 sq. ft., most recent use—residential, off-site use only

Tract #101-23

Blair Property

Aztec Ruins Natl Monument

Aztec Co: San Juan NM 87410-

Location: Manu. house, 604 Ruins Rd.

Landholding Agency: Interior

Property Number: 61200120025

Status: Excess

Comment: 1344 sq. ft., most recent use—residential, off-site use only

Tract 101-11

Randack Property

Aztec Ruins Natl Monument

Aztec Co: San Juan NM 87410-9715

Location: Mobile home, #84 County Road

Landholding Agency: Interior

Property Number: 61200120026

Status: Excess

Comment: 1064 sq. ft., most recent use—residence, off-site use only

North Dakota

Office Bldg.

Lake Oahe Project

3rd & Main

Ft. Yates Co: Sioux ND 58538-

Landholding Agency: COE

Property Number: 31200020001

Status: Unutilized

Comment: 1200 sq. ft., 2-story wood, off-site use only

Ohio

Barker Historic House

Willow Island Locks and Dam

Newport Co: Washington OH 45768-9801

Location: Located at lock site, downstream of lock and dam structure

Landholding Agency: COE

Property Number: 31199120018

Status: Unutilized

Comment: 1600 sq. ft. bldg. with ½ acre of land, 2 story brick frame, needs rehab, on Natl Register of Historic Places, no utilities, off-site use only

Dwelling No. 2

Delaware Lake, Highway 23 North

Delaware OH 43015-

Landholding Agency: COE

Property Number: 31199810005

Status: Excess

Comment: 2-story brick w/basement, most recent use—residential, presence of asbestos/lead paint, off-site use only

Oklahoma

Water Treatment Plant

Belle Starr, Eufaula Lake

Eufaula Co: McIntosh OK 74432-

Landholding Agency: COE

Property Number: 31199630001

Status: Excess

Comment: 16′ x 16′, metal, off-site use only

Water Treatment Plant

Gentry Creek, Eufaula Lake

Eufaula Co: McIntosh OK 74432-

Landholding Agency: COE

Property Number: 31199630002

Status: Excess

Comment: 12′ x 16′, metal, off-site use only

Pennsylvania

Mahoning Creek Reservoir

New Bethlehem Co: Armstrong PA 16242-

Landholding Agency: COE

Property Number: 31199210008

Status: Unutilized

Comment: 1015 sq. ft., 2 story brick residence, off-site use only

Dwelling

Lock & Dam 6, Allegheny River, 1260 River Rd.

Freeport Co: Armstrong PA 16229-2023

Landholding Agency: COE

Property Number: 31199620008

Status: Unutilized

Comment: 2652 sq. ft., 3-story brick house, in close proximity to Lock and Dam, available for interim use for nonresidential purposes

Govt. Dwelling

Youghiogheny River Lake

Confluence Co: Fayette PA 15424-9103

Landholding Agency: COE

Property Number: 31199640002

Status: Unutilized

Comment: 1421 sq. ft., 2-story brick w/basement, most recent use—residential

Dwelling

Lock & Dam 4, Allegheny River

Natrona Co: Allegheny PA 15065-2609

Landholding Agency: COE

Property Number: 31199710009

Status: Unutilized

Comment: 1664 sq. ft., 2-story brick residence, needs repair, off-site use only

Dwelling #1

Crooked Creek Lake

Ford City Co: Armstrong PA 16226-8815

Landholding Agency: COE

Property Number: 31199740002

Status: Excess

Comment: 2030 sq. ft., most recent use—residential, good condition, off-site use only

Dwelling #2

Crooked Creek Lake

Ford City Co: Armstrong PA 16226-8815

Landholding Agency: COE

Property Number: 31199740003

Status: Excess

Comment: 3045 sq. ft., most recent use—residential, good condition, off-site use only

Govt. Dwelling

East Branch Lake

Wilcox Co: Elk PA 15870-9709

Landholding Agency: COE

Property Number: 31199740005

Status: Underutilized

Comment: approx. 5299 sq. ft., 1-story, most recent use—residence, off-site use only

Dwelling #1

Loyalhanna Lake

Saltsburg Co: Westmoreland PA 15681-9302

Landholding Agency: COE

Property Number: 31199740006

Status: Excess

Comment: 1996 sq. ft., most recent use—residential, good condition, off-site use only

Dwelling #2

Loyalhanna Lake

Saltsburg Co: Westmoreland PA 15681-9302

Landholding Agency: COE

Property Number: 31199740007

Status: Excess

Comment: 1996 sq. ft., most recent use—residential, good condition, off-site use only

Dwelling #1

Woodcock Creek Lake

Saegertown Co: Crawford PA 16433-0629

Landholding Agency: COE

Property Number: 31199740008

Status: Excess

Comment: 2106 sq. ft., most recent use—residential, good condition, off-site use only

Dwelling #2

Lock & Dam 6, 1260 River Road

Freeport Co: Armstrong PA 16229-2023

Landholding Agency: COE

Property Number: 31199740009

Status: Excess

Comment: 2652 sq. ft., most recent use—residential, good condition, off-site use only

Dwelling #2

Youghiogheny River Lake

Confluence Co: Fayette PA 15424-9103

Landholding Agency: COE

Property Number: 31199830003

Status: Excess

Comment: 1421 sq. ft., 2-story + basement, most recent use—residential

Residence/Office

Cowanesque Lake Project

Lawrenceville Co: Tioga PA 16929-

Landholding Agency: COE

Property Number: 31199940002

Status: Unutilized

Comment: 1653 sq. ft. residence, and 2,640 sq. ft. storage bldg., need major repairs, no operating sanitary facilities

South Dakota

Residence, Tract 102

Oahe Dam Project

915 South Garfield Ave.

Pierre Co: Hughes SD 57501-

Landholding Agency: COE

Property Number: 31200120004

Status: Excess

Comment: 1008 sq. ft., wood frame, attached two-car garage, off-site use only

Residence, Tract 105

Oahe Dam Project

916 South Arthur

Pierre Co: Hughes SD 57501-

Landholding Agency: COE

Property Number: 31200120005

Status: Excess

Comment: 1008 sq. ft., wood frame, no garage, off-site use only

Residence, Tract 113

Oahe Dam Project

1005 South Garfield

Pierre Co: Hughes SD 57501-

Landholding Agency: COE

Property Number: 31200120006

Status: Excess

Comment: 1232 sq. ft., wood frame, attached one-car garage, off-site use only

Residence, Tract 119

Oahe Dam Project

1013 Memory Lane

Pierre Co: Hughes SD 57501-

Landholding Agency: COE

Property Number: 31200120007

Status: Excess

Comment: 936 sq. ft., wood frame, attached two-car garage, off-site use only

Residence, Tract 123

Oahe Dam Project

1001 South Garfield

Pierre Co: Hughes SD 57501-

Landholding Agency: COE

Property Number: 31200120008

Status: Excess

Comment: 816 sq. ft., wood frame, attached two-car garage, off-site use only

Residence, Tract 124

Oahe Dam Project

1009 South Primrose Lane

Pierre Co: Hughes SD 57501-

Landholding Agency: COE

Property Number: 31200120009

Status: Excess

Comment: 996 sq. ft., wood frame, attached one-car port, off-site use only

Residence, Tract 132

Oahe Dam Project

2401 E. Reen

Pierre Co: Hughes SD 57501-

Landholding Agency: COE

Property Number: 31200120010

Status: Excess

Comment: 1536 sq. ft., wood frame, attached two-car garage, off-site use only

Residence, Tract 200

Oahe Dam Project

1013 South Cleveland

Pierre Co: Hughes SD 57501-

Landholding Agency: COE

Property Number: 31200120011

Status: Excess

Comment: 960 sq. ft., wood frame, attached 2½ car garage, off-site use only

Residence/Tract 100

1004 South Garfield

Pierre Co: SD 57501-

Landholding Agency: COE

Property Number: 31200130001

Status: Excess

Comment: 1200 sq. ft., off-site use only

Residence/Tract 128

1003 South Garfield

Pierre Co: SD 57501-

Landholding Agency: COE

Property Number: 31200130002

Status: Excess

Comment: 816 sq. ft., off-site use only

Residence/Tract 111

916 Memory Lane ‘

Pierre Co: SD 57501-

Landholding Agency: COE

Property Number: 31200130003

Status: Excess

Comment: 912 sq. ft., off-site use only

Tennessee

Quarters #169

Natchez Track Pkwy

222 Meriwether Lewis Rd.

Hohenwald Co: Lewis TN 38462-

Landholding Agency: Interior

Property Number: 61200110006

Status: Excess

Comment: 1121 sq. ft., presence of asbestos, most recent use—residential, off-site use only

Texas

Tract No. 104-44

8918 Graf Road

San Antonio Co: Bexar TX 78223-

Landholding Agency: Interior

Property Number: 61200120012

Status: Unutilized

Comment: 1210 sq. ft., most recent use—residential, off-site use only

Tract 110-01

1234 S. Presa

San Antonio Co: Bexar TX 78210-

Landholding Agency: Interior

Property Number: 61200120013

Status: Unutilized

Comment: 1100 sq. ft., most recent use—residential, off-site use only

Utah

Hovenweep Ranger Station

CR 212

Hovenweep Co: San Juan UT 84534-

Landholding Agency: Interior

Property Number: 61200130004

Status: Excess

Comment: 659 sq. ft., poor condition, most recent use—visitor station, off-site use only

Virginia

Metal Bldg.

John H. Kerr Dam & Reservoir

Co: Boydton VA

Landholding Agency: COE

Property Number: 31199620009

Status: Excess

Comment: 800 sq. ft., most recent use—storage, off-site use only

Former Bowen Residence

Cavalry Court

Spotsylvania Co: VA 22553-

Landholding Agency: Interior

Property Number: 61200010007

Status: Excess

Comment: 1512 sq. ft. residence, off-site use only

Former Jones Residence

Plantation Drive

Spotsylvania Co: VA 22553-

Landholding Agency: Interior

Property Number: 61200010008

Status: Excess

Comment: 1040 sq. ft. residence, off-site use only

Former Busic House

Brock Rd.

Spotsylvania Co: VA 22553-

Landholding Agency: Interior

Property Number: 61200010009

Status: Excess

Comment: 4128 sq. ft. residence, off-site use only

Washington

Bldg. 31

440 Yule Road

Yakima Co: WA 98908-

Landholding Agency: Interior

Property Number: 61200120019

Status: Excess

Comment: 1065 sq. ft., needs rehab, presence of lead paint, most recent use—residence, off-site use only

Bldg. 37

474 Camp 4 Road

Yakima Co: WA 98908-

Landholding Agency: Interior

Property Number: 61200120020

Status: Excess

Comment: 932 sq. ft., needs rehab, presence of lead paint, most recent use—residence, off-site use only

Bldg. 38

476 Camp 4 Road

Yakima Co: WA 98908-

Landholding Agency: Interior

Property Number: 61200120021

Status: Excess

Comment: 1152 sq. ft., needs rehab, presence of lead paint, most recent use—residence, off-site use only

West Virginia

Dwelling 1

Summersville Lake

Summersville Co: Nicholas WV 26651-9802

Landholding Agency: COE

Property Number: 31199810003

Status: Excess

Comment: 1200 sq. ft., presence of asbestos/lead paint, most recent use—residential, off-site use only

Dwelling 2

Sutton Lake

Sutton Co: Braxton WV 26651-9802

Landholding Agency: COE

Property Number: 31199810004

Status: Excess

Comment: 1100 sq. ft., most recent use—residential, off-site use only

Wisconsin

Former Lockmaster’s Dwelling

Cedar Locks

4527 East Wisconsin Road

Appleton Co: Outagamie WI 54911-

Landholding Agency: COE

Property Number: 31199011524

Status: Unutilized

Comment: 1224 sq. ft.; 2 story brick/wood frame residence; needs rehab; secured area with alternate access.

Former Lockmaster's Dwelling

Appleton 4th Lock

905 South Lowe Street

Appleton Co: Outagamie WI 54911-

Landholding Agency: COE

Property Number: 31199011525

Status: Unutilized

Comment: 908 sq. ft.; 2 story wood frame residence; needs rehab.

Former Lockmaster's Dwelling

Kaukauna 1st Lock

301 Canal Street

Kaukauna Co: Outagamie WI 54131-

Landholding Agency: COE

Property Number: 31199011527

Status: Unutilized

Comment: 1290 sq. ft.; 2 story wood frame residence; needs rehab; secured area with alternate access

Former Lockmaster's Dwelling

Appleton 1st Lock

905 South Oneida Street

Appleton Co: Outagamie WI 54911-

Landholding Agency: COE

Property Number: 31199011531

Status: Unutilized

Comment: 1300 sq. ft.; potential utilities; 2 story wood frame residence; needs rehab; secured area with alternate access

Former Lockmaster's Dwelling

Rapid Croche Lock

Lock Road

Wrightstown Co: Outagamie WI 54180-

Location: 3 miles southwest of intersection State Highway 96 and Canal Road

Landholding Agency: COE

Property Number: 31199011533

Status: Unutilized

Comment: 1952 sq. ft.; 2 story wood frame residence; potential utilities; needs rehab.

Former Lockmaster's Dwelling

Little KauKauna Lock

Little KauKauna

Lawrence Co: Brown WI 54130-

Location: 2 miles southeasterly from intersection of Lost Dauphin Road (County Trunk Highway “D”) and River Street

Landholding Agency: COE

Property Number: 31199011535

Status: Unutilized

Comment: 1224 sq. ft.; 2 story brick/wood frame residence; needs rehab.

Former Lockmaster's Dwelling

Little Chute, 2nd Lock 214 Mill Street

Little Chute Co: Outagamie WI 54140-

Landholding Agency: COE

Property Number: 31199011536

Status: Unutilized

Comment: 1224 sq. ft.; 2 story brick/wood frame residence; potential utilities; needs rehab; secured area with alternate access

Land (by State)

Arkansas

Parcel 01

DeGray Lake

Section 12

Arkadelphia Co: Clark AR 71923-9361

Landholding Agency: COE

Property Number: 31199010071

Status: Unutilized

Comment: 77.6 acres

Parcel 02

DeGray Lake

Section 13

Arkadelphia Co: Clark AR 71923-9361

Landholding Agency: COE

Property Number: 31199010072

Status: Unutilized

Comment: 198.5 acres

Parcel 03

DeGray Lake

Section 18

Arkadelphia Co: Clark AR 71923-9361

Landholding Agency: COE

Property Number: 31199010073

Status: Unutilized

Comment: 50.46 acres

Parcel 04

DeGray Lake

Section 24, 25, 30 and 31

Arkadelphia Co: Clark AR 71923-9361

Landholding Agency: COE

Property Number: 31199010074

Status: Unutilized

Comment: 236.37 acres

Parcel 05

DeGray Lake

Section 16

Arkadelphia Co: Clark AR 71923-9361

Landholding Agency: COE

Property Number: 31199010075

Status: Unutilized

Comment: 187.30 acres

Parcel 06

DeGray Lake

Section 13

Arkadelphia Co: Clark AR 71923-9361

Landholding Agency: COE

Property Number: 31199010076

Status: Unutilized

Comment: 13.0 acres

Parcel 07

DeGray Lake

Section 34

Arkadelphia Co: Hot Spring AR 71923-9361

Landholding Agency: COE

Property Number: 31199010077

Status: Unutilized

Comment: 0.27 acres

Parcel 08

DeGray Lake

Section 13

Arkadelphia Co: Clark AR 71923-9361

Landholding Agency: COE

Property Number: 31199010078

Status: Unutilized

Comment: 14.6 acres

Parcel 09

DeGray Lake

Section 12

Arkadelphia Co: Hot Spring AR 71923-9361

Landholding Agency: COE

Property Number: 31199010079

Status: Unutilized

Comment: 6.60 acres

Parcel 10

DeGray Lake

Section 12

Arkadelphia Co: Hot Spring AR 71923-9361

Landholding Agency: COE

Property Number: 31199010080

Status: Unutilized

Comment: 4.5 acres

Parcel 11

DeGray Lake

Section 19

Arkadelphia Co: Hot Spring AR 71923-9361

Landholding Agency: COE

Property Number: 31199010081

Status: Unutilized

Comment: 19.50 acres

Lake Greeson

Section 7, 8 and 18

Murfreesboro Co: Pike AR 71958-9720

Landholding Agency: COE

Property Number: 31199010083

Status: Unutilized

Comment: 46 acres

Florida

Outdoor Training Facility

13601 SW 176th St.

Miami Co: FL 33177-

Landholding Agency: GSA

Property Number: 54200130010

Status: Excess

Comment: approx. 144.15 acres, access restrictions, contains one of the most rare ecosystem in Nation—Pine Rocklands, restrictions, air navigation rights GSA Number: 4-D-FL-0546-G

Kansas

Parcel 1

El Dorado Lake

Section 13, 24, and 18

(See County) Co: Butler KS

Landholding Agency: COE

Property Number: 31199010064

Status: Unutilized

Comment: 61 acres; most recent use—recreation.

Kentucky

Tract 2625

Barkley Lake, Kentucky, and Tennessee

Cadiz Co: Trigg KY 42211-

Location: Adjoining the village of Rockcastle.

Landholding Agency: COE

Property Number: 31199010025

Status: Excess

Comment: 2.57 acres; rolling and wooded

Tract 2709-10 and 2710-2

Barkley Lake, Kentucky and Tennessee

Cadiz Co: Trigg KY 42211-

Location: 2½ miles in a southerly direction from the village of Rockcastle.

Landholding Agency: COE

Property Number: 31199010026

Status: Excess

Comment: 2.00 acres; steep and wooded

Tract 2708-1 and 2709-1

Barkley Lake, Kentucky and Tennessee

Cadiz Co: Trigg KY 42211-

Location: 2½ miles in a southerly direction from the village of Rockcastle.

Landholding Agency: COE

Property Number: 31199010027

Status: Excess

Comment: 3.59 acres; rolling and wooded; no utilities

Tract 2800

Barkley Lake, Kentucky and Tennessee

Cadiz Co: Trigg KY 42211-

Location: 4½ miles in a southeasterly direction from the village of Rockcastle.

Landholding Agency: COE

Property Number: 31199010028

Status: Excess

Comment: 5.44 acres; steep and wooded

Tract 2915

Barkley Lake, Kentucky and Tennessee

Cadiz Co: Trigg KY 42211-

Location: 6½ miles west of Cadiz.

Landholding Agency: COE

Property Number: 31199010029

Status: Excess

Comment: 5.76 acres; steep and wooded; no utilities

Tract 2702

Barkley Lake, Kentucky and Tennessee

Cadiz Co: Trigg KY 42211-

Location: 1 mile in a southerly direction from the village of Rockcastle.

Landholding Agency: COE

Property Number: 31199010031

Status: Excess

Comment: 4.90 acres; wooded; no utilities

Tract 4318

Barkley Lake, Kentucky and Tennessee

Canton Co: Trigg KY 42212-

Location: Trigg Co. adjoining the city of Canton, KY. on the waters of Hopson Creek.

Landholding Agency: COE

Property Number: 31199010032

Status: Excess

Comment: 8.24 acres; steep and wooded

Tract 4502

Barkley Lake, Kentucky and Tennessee

Canton Co: Trigg KY 42212-

Location: 3½ miles in a southerly direction from Canton, KY.

Landholding Agency: COE

Property Number: 31199010033

Status: Excess

Comment: 4.26 acres; steep and wooded

Tract 4611

Barkley Lake, Kentucky and Tennessee

Canton Co: Trigg KY 42212-

Location: 5 miles south of Canton, KY.

Landholding Agency: COE

Property Number: 31199010034

Status: Excess

Comment: 10.51 acres; steep and wooded; no utilities

Tract 4619

Barkley Lake, Kentucky and Tennessee

Canton Co: Trigg KY 42212-

Location: 4½ miles south from Canton, KY.

Landholding Agency: COE

Property Number: 31199010035

Status: Excess

Comment: 2.02 acres; steep and wooded; no utilities

Tract 4817

Barkley Lake, Kentucky and Tennessee

Canton Co: Trigg KY 42212-

Location: 6½ miles south of Canton, KY.

Landholding Agency: COE

Property Number: 31199010036

Status: Excess

Comment: 1.75 acres; wooded

Tract 1217

Barkley Lake, Kentucky and Tennessee

Eddyville Co: Lyon KY 42030-

Location: On the north side of the Illinois Central Railroad.

Landholding Agency: COE

Property Number: 31199010042

Status: Excess

Comment: 5.80 acres; steep and wooded

Tract 1906

Barkley Lake, Kentucky and Tennessee

Eddyville Co: Lyon KY 42030-

Location: Approximately 4 miles east of Eddyville, KY.

Landholding Agency: COE

Property Number: 31199010044

Status: Excess

Comment: 25.86 acres; rolling steep and partially wooded; no utilities

Tract 1907

Barkley Lake, Kentucky and Tennessee

Eddyville Co: Lyon KY 42038-

Location: On the waters of Pilfen Creek, 4 miles east of Eddyville, KY.

Landholding Agency: COE

Property Number: 31199010045

Status: Excess

Comment: 8.71 acres; rolling steep and wooded; no utilities

Tract 2001 #1

Barkley Lake, Kentucky and Tennessee

Eddyville Co: Lyon KY 42030-

Location: Approximately 4½ miles east of Eddyville, KY.

Landholding Agency: COE

Property Number: 31199010046

Status: Excess

Comment: 47.42 acres; steep and wooded; no utilities

Tract 2001 #2

Barkley Lake, Kentucky and Tennessee

Eddyville Co: Lyon KY 42030-

Location: Approximately 4½ miles east of Eddyville, KY.

Landholding Agency: COE

Property Number: 31199010047

Status: Excess

Comment: 8.64 acres; steep and wooded; no utilities

Tract 2005

Barkley Lake, Kentucky and Tennessee

Eddyville Co: Lyon KY 42030-

Location: Approximately 5½ miles east of Eddyville, KY.

Landholding Agency: COE

Property Number: 31199010048

Status: Excess

Comment: 4.62 acres; steep and wooded; no utilities

Tract 2307

Barkley Lake, Kentucky and Tennessee

Eddyville Co: Lyon KY 42030-

Location: Approximately 7½ miles southeasterly of Eddyville, KY.

Landholding Agency: COE

Property Number: 31199010049

Status: Excess

Comment: 11.43 acres; steep; rolling and wooded; no utilities

Tract 2403

Barkley Lake, Kentucky and Tennessee

Eddyville Co: Lyon KY 42030-

Location: 7 miles southeasterly of Eddyville, KY.

Landholding Agency: COE

Property Number: 31199010050

Status: Excess

Comment: 1.56 acres; steep and wooded; no utilities

Tract 2504

Barkley Lake, Kentucky and Tennessee

Eddyville Co: Lyon KY 42030-

Location: 9 miles southeasterly of Eddyville, KY.

Landholding Agency: COE

Property Number: 31199010051

Status: Excess

Comment: 24.46 acres; steep and wooded; no utilities

Tract 214

Barkley Lake, Kentucky and Tennessee

Grand Rivers Co: Lyon KY 42045-

Location: South of the Illinois Central Railroad, 1 mile east of the Cumberland River.

Landholding Agency: COE

Property Number: 31199010052

Status: Excess

Comment: 5.5 acres; wooded; no utilities

Tract 215

Barkley Lake, Kentucky and Tennessee

Grand Rivers Co: Lyon KY 42045-

Location: 5 miles southwest of Kuttawa.

Landholding Agency: COE

Property Number: 31199010053

Status: Excess

Comment: 1.40 acres; wooded; no utilities

Tract 241

Barkley Lake, Kentucky and Tennessee

Grand Rivers Co: Lyon KY 42045-

Location: Old Henson Ferry Road, 6 miles west of Kuttawa, KY.

Landholding Agency: COE

Property Number: 31199010054

Status: Excess

Comment: 1.26 acres; steep and wooded; no utilities

Tracts 306, 311, 315 and 325

Barkley Lake, Kentucky and Tennessee

Grand Rivers Co: Lyon KY 42045-

Location: 2.5 miles southwest of Kuttawa, KY. on the waters of Cypress Creek.

Landholding Agency: COE

Property Number: 31199010055

Status: Excess

Comment: 38.77 acres; steep and wooded; no utilities

Tracts 2305, 2306, and 2400-1

Barkley Lake, Kentucky and Tennessee

Eddyville Co: Lyon KY 42030-

Location: 6½ miles southeasterly of Eddyville, KY.

Landholding Agency: COE

Property Number: 31199010056

Status: Excess

Comment: 97.66 acres; steep rolling and wooded; no utilities

Tracts 5203 and 5204

Barkley Lake, Kentucky and Tennessee

Linton Co: Trigg KY 42212-

Location: Village of Linton, KY state highway 1254.

Landholding Agency: COE

Property Number: 31199010058

Status: Excess

Comment: 0.93 acres; rolling, partially wooded; no utilities

Tract 5240

Barkley Lake, Kentucky and Tennessee

Linton Co: Trigg KY 42212-

Location: 1 mile northwest of Linton, KY.

Landholding Agency: COE

Property Number: 31199010059

Status: Excess

Comment: 2.26 acres; steep and wooded; no utilities

Tract 4628

Barkley Lake, Kentucky and Tennessee

Canton Co: Trigg KY 42212-

Location: 4½ miles south from Canton, KY.

Landholding Agency: COE

Property Number: 31199011621

Status: Excess

Comment: 3.71 acres; steep and wooded; subject to utility easements

Tract 4619-B

Barkley Lake, Kentucky and Tennessee

Canton Co: Trigg KY 42212-

Location: 4½ miles south from Canton, KY.

Landholding Agency: COE

Property Number: 31199011622

Status: Excess

Comment: 1.73 acres; steep and wooded; subject to utility easements

Tract 2403-B

Barkley Lake, Kentucky and Tennessee

Eddyville Co: Lyon KY 42038-

Location: 7 miles southeasterly from Eddyville, KY.

Landholding Agency: COE

Property Number: 31199011623

Status: Unutilized

Comment: 0.70 acres, wooded; subject to utility easements

Tract 241-B

Barkley Lake, Kentucky and Tennessee

Grand Rivers Co: Lyon KY 42045-

Location: South of Old Henson Ferry Road, 6 miles west of Kuttawa, KY.

Landholding Agency: COE

Property Number: 31199011624

Status: Excess

Comment: 11.16 acres; steep and wooded; subject to utility easements

Tracts 212 and 237

Barkley Lake, Kentucky and Tennessee

Grand Rivers Co: Lyon KY 42045-

Location: Old Henson Ferry Road, 6 miles west of Kuttawa, KY.

Landholding Agency: COE

Property Number: 31199011625

Status: Excess

Comment: 2.44 acres; steep and wooded; subject to utility easements

Tract 215-B

Barkley Lake, Kentucky and Tennessee

Grand Rivers Co: Lyon KY 42045-

Location: 5 miles southwest of Kuttawa

Landholding Agency: COE

Property Number: 31199011626

Status: Excess

Comment: 1.00 acres; wooded; subject to utility easements

Tract 233

Barkley Lake, Kentucky and Tennessee

Grand Rivers Co: Lyon KY 42045-

Location: 5 miles southwest of Kuttawa

Landholding Agency: COE

Property Number: 31199011627

Status: Excess

Comment: 1.00 acres; wooded; subject to utility easements

Tract B—Markland Locks & Dam

Hwy 42, 3.5 miles downstream of Warsaw

Warsaw Co: Gallatin KY 41095-

Landholding Agency: COE

Property Number: 31199130002

Status: Unutilized

Comment: 10 acres, most recent use—recreational, possible periodic flooding

Tract A—Markland Locks & Dam

Hwy 42, 3.5 miles downstream of Warsaw

Warsaw Co: Gallatin KY 41095-

Landholding Agency: COE

Property Number: 31199130003

Status: Unutilized

Comment: 8 acres, most recent use—recreational, possible periodic flooding

Tract C—Markland Locks & Dam

Hwy 42, 3.5 miles downstream of Warsaw

Warsaw Co: Gallatin KY 41095-

Landholding Agency: COE

Property Number: 31199130005

Status: Unutilized

Comment: 4 acres, most recent use—recreational, possible periodic flooding

Tract N-819

Dale Hollow Lake & Dam Project

Illwill Creek, Hwy 90

Hobart Co: Clinton KY 42601-

Landholding Agency: COE

Property Number: 31199140009

Status: Underutilized

Comment: 91 acres, most recent use—hunting, subject to existing easements

Portion of Lock & Dam No. 1

Kentucky River

Carrolton Co: Carroll KY 41008-0305

Landholding Agency: COE

Property Number: 31199320003

Status: Unutilized

Comment: approx. 3.5 acres (sloping), access monitored

Portion of Lock & Dam No. 2

Kentucky River

Lockport Co: Henry KY 40036-9999

Landholding Agency: COE

Property Number: 31199320004

Status: Underutilized

Comment: approx. 13.14 acres (sloping), access monitored

Carr Creek Lake Project

Tract Nos. 611, 681, 619

Sassafras Co: KY 41759-9703

Landholding Agency: COE

Property Number: 31200040008

Status: Excess

Comment: irregular-shaped, very steep

Louisiana

Wallace Lake Dam and Reservoir

Shreveport Co: Caddo LA 71103-

Landholding Agency: COE

Property Number: 31199011009

Status: Unutilized

Comment: 10.81 acres; wildlife/forestry; no utilities

Bayou Bodcau Dam and Reservoir

Haughton Co: Caddo LA 71037-9707

Location: 35 miles Northeast of Shreveport, La.

Landholding Agency: COE

Property Number: 31199011010

Status: Unutilized

Comment: 203 acres; wildlife/forestry; no utilities

Mississippi

Parcel 7

Grenada Lake

Sections 22, 23, T24N

Grenada Co: Yalobusha MS 38901-0903

Landholding Agency: COE

Property Number: 31199011019

Status: Underutilized

Comment: 100 acres; no utilities; intermittently used under lease—expires 1994

Parcel 8

Grenada Lake

Section 20, T24N

Grenada Co: Yalobusha MS 38901-0903

Landholding Agency: COE

Property Number: 31199011020

Status: Underutilized

Comment: 30 acres; no utilities; intermittently used under lease—expires 1994

Parcel 9

Grenada Lake

Section 20, T24N, R7E

Grenada Co: Yalobusha MS 38901-0903

Landholding Agency: COE

Property Number: 31199011021

Status: Underutilized

Comment: 23 acres; no utilities; intermittently used under lease—expires 1994

Parcel 10

Grenada Lake

Sections 16, 17, 18 T24N R8E

Grenada Co: Calhoun MS 38901-0903

Landholding Agency: COE

Property Number: 31199011022

Status: Underutilized

Comment: 490 acres; no utilities; intermittently used under lease—expires 1994

Parcel 2

Grenada Lake

Section 20 and T23N, R5E

Grenada Co: Grenada MS 38901-0903

Landholding Agency: COE

Property Number: 31199011023

Status: Underutilized

Comment: 60 acres; no utilities; most recent use—wildlife and forestry management

Parcel 3

Grenada Lake

Section 4, T23N, R5E

Grenada Co: Yalobusha MS 38901-0903

Landholding Agency: COE

Property Number: 31199011024

Status: Underutilized

Comment: 120 acres; no utilities; most recent use—wildlife and forestry management; (13.5 acres/agriculture lease)

Parcel 4

Grenada Lake

Section 2 and 3. T23N, R5E

Grenada Co: Yalobusha MS 38901-0903

Landholding Agency: COE

Property Number: 31199011025

Status: Underutilized

Comment: 60 acres; no utilities; most recent use—wildlife and forestry management

Parcel 5

Grenada Lake

Section 7, T24N, R6E

Grenada Co: Yalobusha MS 38901-0903

Landholding Agency: COE

Property Number: 31199011026

Status: Underutilized

Comment: 20 acres; no utilities; most recent use—wildlife and forestry management; (14 acres/agriculture lease)

Parcel 6

Grenada Lake

Section 9, T24N, R6E

Grenada Co: Yalobusha MS 38903-0903

Landholding Agency: COE

Property Number: 31199011027

Status: Underutilized

Comment: 80 acres; no utilities; most recent use—wildlife and forestry management

Parcel 11

Grenada Lake

Section 20, T24N, R8E

Grenada Co: Calhoun MS 38901-0903

Landholding Agency: COE

Property Number: 31199011028

Status: Underutilized

Comment: 30 acres; no utilities; most recent use—wildlife and forestry management

Parcel 12

Grenada Lake

Section 25, T24N, R7E

Grenada Co: Yalobusha MS 38390-10903

Landholding Agency: COE

Property Number: 31199011029

Status: Underutilized

Comment: 30 acres; no utilities; most recent use—wildlife and forestry management

Parcel 13

Grenada Lake

Section 34, T24N, R7E

Grenada Co: Yalobusha MS 38903-0903

Landholding Agency: COE

Property Number: 31199011030

Status: Underutilized

Comment: 35 acres; no utilities; most recent use—wildlife and forestry management; (11 acres/agriculture lease)

Parcel 14

Grenada Lake

Section 3, T23N, R6E

Grenada Co: Yalobusha MS 38901-0903

Landholding Agency: COE

Property Number: 31199011031

Status: Underutilized

Comment: 15 acres; no utilities; most recent use—wildlife and forestry management

Parcel 15

Grenada Lake

Section 4, T24N, R6E

Grenada Co: Yalobusha MS 38901-0903

Landholding Agency: COE

Property Number: 31199011032

Status: Underutilized

Comment: 40 acres; no utilities; most recent use—wildlife and forestry management

Parcel 16

Grenada Lake

Section 9, T23N, R6E

Grenada Co: Yalobusha MS 38901-0903

Landholding Agency: COE

Property Number: 31199011033

Status: Underutilized

Comment: 70 acres; no utilities; most recent use—wildlife and forestry management

Parcel 17

Grenada Lake

Section 17, T23N, R7E

Grenada Co: Grenada MS 28901-0903

Landholding Agency: COE

Property Number: 31199011034

Status: Underutilized

Comment: 35 acres; no utilities; most recent use—wildlife and forestry management

Parcel 18

Grenada Lake

Section 22, T23N, R7E

Grenada Co: Grenada MS 28902-0903

Landholding Agency: COE

Property Number: 31199011035

Status: Underutilized

Comment: 10 acres; no utilities; most recent use—wildlife and forestry management

Parcel 19

Grenada Lake

Section 9, T22N, R7E

Grenada Co: Grenada MS 38901-0903

Landholding Agency: COE

Property Number: 31199011036

Status: Underutilized

Comment: 20 acres; no utilities; most recent use—wildlife and forestry management

Missouri

Harry S Truman Dam & Reservoir

Warsaw Co: Benton MO 65355-

Location: Triangular shaped parcel southwest of access road “B”, part of Bledsoe Ferry Park Tract 150.

Landholding Agency: COE

Property Number: 31199030014

Status: Underutilized

Comment: 1.7 acres; potential utilities.

Oklahoma

Pine Creek Lake

Section 27

(See County) Co: McCurtain OK

Landholding Agency: COE

Property Number: 31199010923

Status: Unutilized

Comment: 3 acres; no utilities; subject to right of way for Oklahoma State Highway 3

Pennsylvania

Mahoning Creek Lake

New Bethlehem Co: Armstrong PA 16242-9603

Location: Route 28 north to Belknap, Road #4

Landholding Agency: COE

Property Number: 31199010018

Status: Excess

Comment: 2.58 acres; steep and densely wooded

Tracts 610, 611, 612

Shenango River Lake

Sharpsville Co: Mercer PA 16150-

Location: I-79 North, I-80 West, Exit Sharon. R18 North 4 miles, left on R518, right on Mercer Avenue

Landholding Agency: COE

Property Number: 31199011001

Status: Excess

Comment: 24.09 acres; subject to flowage easement

Tracts L24, L26

Crooked Creek Lake

Co: Armstrong PA 03051-

Location: Left bank—55 miles downstream of dam

Landholding Agency: COE

Property Number: 31199011011

Status: Unutilized

Comment: 7.59 acres; potential for utilities

Portion of Tract L-21A

Crooked Creek Lake, LR 03051

Ford City Co: Armstrong PA 16226-

Landholding Agency: COE

Property Number: 31199430012

Status: Unutilized

Comment: Approximately 1.72 acres of undeveloped land, subject to gas rights

Portion of Tract 119

State Rt 969

Curwensville Co: Clearfield PA 16833-

Landholding Agency: COE

Property Number: 31200010005

Status: Unutilized

Comment: approx. 17 acres, hilly wooded terrain

Tennessee

Tract 6827

Barkley Lake

Dover Co: Stewart TN 37058-

Location: 2½ miles west of Dover, TN.

Landholding Agency: COE

Property Number: 31199010927

Status: Excess

Comment: .57 acres; subject to existing easements

Tracts 6002-2 and 6010

Barkley Lake

Dover Co: Stewart TN 37058-

Location: 3½ miles south of village of Tabaccoport

Landholding Agency: COE

Property Number: 31199010928

Status: Excess

Comment: 100.86 acres; subject to existing easements

Tract 11516

Barkley Lake

Ashland City Co: Dickson TN 37015-

Location: ½ mile downstream from Cheatham Dam

Landholding Agency: COE

Property Number: 31199010929

Status: Excess

Comment: 26.25 acres; subject to existing easements

Tract 2319

J. Percy Priest Dam and Resorvoir

Murfreesboro Co: Rutherford TN 37130-

Location: West of Buckeye Bottom Road

Landholding Agency: COE

Property Number: 31199010930

Status: Excess

Comment: 14.48 acres; subject to existing easements

Tract 2227

J. Percy Priest Dam and Resorvoir

Murfreesboro Co: Rutherford TN 37130-

Location: Old Jefferson Pike

Landholding Agency: COE

Property Number: 31199010931

Status: Excess

Comment: 2.27 acres; subject to existing easements

Tract 2107

J. Percy Priest Dam and Reservoir

Murfreesboro Co: Rutherford TN 37130-

Location: Across Fall Creek near Fall Creek camping area.

Landholding Agency: COE

Property Number: 31199010932

Status: Excess

Comment: 14.85 acres; subject to existing easements

Tracts 2601, 2602, 2603, 2604

Cordell Hull Lake and Dam Project

Doe Row Creek

Gainesboro Co: Jackson TN 38562-

Location: TN Highway 56

Landholding Agency: COE

Property Number: 31199010933

Status: Unutilized

Comment: 11 acres; subject to existing easements

Tract 1911

J. Percy Priest Dam and Reservoir

Murfreesboro Co: Rutherford TN 37130-

Location: East of Lamar Road

Landholding Agency: COE

Property Number: 31199010934

Status: Excess

Comment: 6.92 acres; subject to existing easements

Tract 2321

J. Percy Priest Dam and Reservoir

Murfreesboro Co: Rutherford TN 37130-

Location: South of Old Jefferson Pike

Landholding Agency: COE

Property Number: 31199010935

Status: Excess

Comment: 12 acres; subject to existing easements

Tract 7206

Barkley Lake

Dover Co: Stewart TN 37058-

Location: 2½ miles SE of Dover, TN.

Landholding Agency: COE

Property Number: 31199010936

Status: Excess

Comment: 10.15 acres; subject to existing easements

Tracts 8813, 8814

Barkley Lake

Cumberland Co: Stewart TN 37050-

Location: 1½ miles East of Cumberland City.

Landholding Agency: COE

Property Number: 31199010937

Status: Excess

Comment: 96 acres; subject to existing easements

Tract 8911

Barkley Lake

Cumberland City Co: Montgomery TN 37050-

Location: 4 miles east of Cumberland City.

Landholding Agency: COE

Property Number: 31199010938

Status: Excess

Comment: 7.7 acres; subject to existing easements

Tract 11503

Barkley Lake

Ashland City Co: Cheatham TN 37015-

Location: 2 miles downstream from Cheatham Dam.

Landholding Agency: COE

Property Number: 31199010939

Status: Excess

Comment: 1.1 acres; subject to existing easements

Tracts 11523, 11524

Barkley Lake

Ashland City Co: Cheatham TN 37015-

Location: 2½ miles downstream from Cheatham Dam.

Landholding Agency: COE

Property Number: 31199010940

Status: Excess

Comment: 19.5 acres; subject to existing easements

Tract 6410

Barkley Lake

Bumpus Mills Co: Stewart TN 37028-

Location: 4½ miles SW. of Bumpus Mills.

Landholding Agency: COE

Property Number: 31199010941

Status: Excess

Comment: 17 acres; subject to existing easements

Tract 9707

Barkley Lake

Palmyer Co: Montgomery TN 37142-

Location: 3 miles NE of Palmyer, TN. Highway 149

Landholding Agency: COE

Property Number: 31199010943

Status: Excess

Comment: 6.6 acres; subject to existing easements

Tract 6949

Barkley Lake

Dover Co: Stewart TN 37058-

Location: 1½ miles SE of Dover, TN.

Landholding Agency: COE

Property Number: 31199010944

Status: Excess

Comment: 29.67 acres; subject to existing easements

Tracts 6005 and 6017

Barkley Lake

Dover Co: Stewart TN 37058-

Location: 3 miles south of Village of Tobaccoport.

Landholding Agency: COE

Property Number: 31199011173

Status: Excess

Comment: 5 acres; subject to existing easements

Tracts K-1191, K-1135

Old Hickory Lock and Dam

Hartsville Co: Trousdale TN 37074-

Landholding Agency: COE

Property Number: 31199130007

Status: Underutilized

Comment: 54 acres, (portion in floodway), most recent use—recreation

Tract A-102

Dale Hollow Lake & Dam Project

Canoe Ridge, State Hwy 52

Celina Co: Clay TN 38551-

Landholding Agency: COE

Property Number: 31199140006

Status: Underutilized

Comment: 351 acres, most recent use—hunting, subject to existing easements

Tract A-120

Dale Hollow Lake & Dam Project

Swann Ridge, State Hwy No. 53

Celina Co: Clay TN 38551-

Landholding Agency: COE

Property Number: 31199140007

Status: Underutilized

Comment: 883 acres, most recent use—hunting, subject to existing easements

Tract D-185

Dale Hollow Lake & Dam Project

Ashburn Creek, Hwy No. 53

Livingston Co: Clay TN 38570-

Landholding Agency: COE

Property Number: 31199140010

Status: Underutilized

Comment: 97 acres, most recent use—hunting, subject to existing easements

Utah

DOE Remediated Resident Site

549 East Clay Hill Drive

Monticello Co: San Juan UT 84535-

Landholding Agency: GSA

Property Number: 54200130011

Status: Surplus

Comment: 0.873 acres

GSA Number: 7-B-UT-0516

Suitable/Unavailable Properties

Buildings (by State)

California

Santa Fe Flood Control Basin

Irwindale Co: Los Angeles CA 91706-

Landholding Agency: COE

Property Number: 31199011298

Status: Unutilized

Comment: 1400 sq. ft.; 1 story stucco; needs rehab; termite damage; secured area with alternate access

Illinois

Bldg. 7

Ohio River Locks & Dam No. 53

Grand Chain Co: Pulaski IL 62941-9801

Location: Ohio River Locks and Dam No. 53 at Grand Chain

Landholding Agency: COE

Property Number: 31199010001

Status: Unutilized

Comment: 900 sq. ft.; 1 floor wood frame; most recent use—residence

Bldg. 6

Ohio River Locks & Dam No. 53

Grand Chain Co: Pulaski IL 62941-9801

Location: Ohio River Locks and Dam No. 53 at Grand Chain

Landholding Agency: COE

Property Number: 31199010002

Status: Unutilized

Comment: 900 sq. ft.; one floor wood frame; most recent use—residence

Bldg. 5

Ohio River Locks & Dam No. 53

Grand Chain Co: Pulaski IL 62941-9801

Location: Ohio River Locks and Dam No. 53 at Grand Chain

Landholding Agency: COE

Property Number: 31199010003

Status: Unutilized

Comment: 900 sq. ft.; one floor wood frame; most recent use—residence

Bldg. 4

Ohio River Locks & Dam No. 53

Grand Chain Co: Pulaski IL 62941-9801

Location: Ohio River Locks and Dam No. 53 at Grand Chain

Landholding Agency: COE

Property Number: 31199010004

Status: Unutilized

Comment: 900 sq. ft.; one floor wood frame; most recent use—residence

Bldg. 3

Ohio River Locks & Dam No. 53

Grand Chain Co: Pulaski IL 62941-9801

Location: Ohio River Locks and Dam No. 53 at Grand Chain

Landholding Agency: COE

Property Number: 31199010005

Status: Unutilized

Comment: 900 sq. ft.; one floor wood frame

Bldg. 2

Ohio River Locks & Dam No. 53

Grand Chain Co: Pulaski IL 62941-9801

Location: Ohio River Locks and Dam No. 53 at Grand Chain

Landholding Agency: COE

Property Number: 31199010006

Status: Unutilized

Comment: 900 sq. ft.; one floor wood frame; most recent use—residence

Bldg. 1

Ohio River Locks & Dam No. 53

Grand Chain Co: Pulaski IL 62941-9801

Location: Ohio River Locks and Dam No. 53 at Grand Chain

Landholding Agency: COE

Property Number: 31199010007

Status: Unutilized

Comment: 900 sq. ft.; one floor wood frame; most recent use—residence

Ohio

Bldg.

Berlin Lake

7400 Bedell Road

Berlin Center Co: Mahoning OH 44401-9797

Landholding Agency: COE

Property Number: 31199640001

Status: Unutilized

Comment: 1420 sq. ft., 2-story brick w/garage and basement, most recent use—residential, secured w/alternate access

Pennsylvania

Tract 353

Grays Landing Lock & Dam Project

Greensboro Co: Greene PA 15338-

Landholding Agency: COE

Property Number: 31199430019

Status: Unutilized

Comment: 812 sq. ft., 2-story, log structure, needs repair, most recent use—residential, if used for habitation must be flood proofed or removed off-site

Tract 403A

Grays Landing Lock & Dam Project

Greensboro Co: Greene PA 15338-

Landholding Agency: COE

Property Number: 31199430021

Status: Unutilized

Comment: 620 sq. ft., 2-story, needs repair, most recent use—residential, if used for habitation must be flood proofed or removed off-site

Tract 403B

Grays Landing Lock & Dam Project

Greensboro Co: Greene PA 15338-

Landholding Agency: COE

Property Number: 31199430022

Status: Unutilized

Comment: 1600 sq. ft., 2-story, brick structure, needs repair, most recent use—residential, if used for habitation must be flood proofed or removed off-site

Tract 403C

Grays Landing Lock & Dam Project

Greensboro Co: Greene PA 15338-

Landholding Agency: COE

Property Number: 31199430023

Status: Unutilized

Comment: 672 sq. ft., 2-story carriage house/stable barn type structure, needs repair, most recent use—storage/garage, if used for habitation must be flood proofed or removed

Tract 434

Grays Landing Lock & Dam Project

Greensboro Co: Greene PA 15338-

Landholding Agency: COE

Property Number: 31199430024

Status: Unutilized

Comment: 1059 sq. ft., 2-story, wood frame, 2 apt. units, historic property, if used for habitation must be flood proofed or removed off-site

Tract No. 224

Grays Landing Lock & Dam Project

Greensboro Co: Green PA 15338-

Landholding Agency: COE

Property Number: 31199440001

Status: Unutilized

Comment: 1040 sq. ft., 2 story bldg., needs repair, historic struct., flowage easement, if habitation is desired property will be required to be flood proofed or removed off site

Wisconsin

Former Lockmaster's Dwelling

DePere Lock

100 James Street

De Pere Co: Brown WI 54115-

Landholding Agency: COE

Property Number: 31199011526

Status: Unutilized

Comment: 1224 sq. ft.; 2 story brick/wood frame residence; needs rehab; secured area with alternate access.

Land (by State)

Georgia

Land—St. Simons Boathouse

St. Simons Island Co: Glynn GA 31522-0577

Landholding Agency: DOT

Property Number: 87199540003

Status: Unutilized

Comment: .08 acres, most recent use—pier and dockage for Coast Guard boats

Illinois

Lake Shelbyville

Shelbyville Co: Shelby & Moultrie IL 62565-9804

Landholding Agency: COE

Property Number: 31199240004

Status: Unutilized

Comment: 5 parcels of land equalling 0.70 acres, improved w/4 small equipment storage bldgs. and a small access road, easement restrictions.

Pennsylvania

East Branch Clarion River Lake

Wilcox Co: Elk PA

Location: Free camping area on the right bank off entrance roadway.

Landholding Agency: COE

Property Number: 31199011012

Status: Underutilized

Comment: 1 acre; most recent use—free campground

Dashields Locks and Dam (Glenwillard, PA)

Crescent Twp. Co: Allegheny PA 15046-0475

Landholding Agency: COE

Property Number: 31199210009

Status: Unutilized

Comment: 0.58 acres, most recent use—baseball field

Texas

Parcel #222

Lake Texoma

Co: Grayson TX

Location: C. Meyerheim survey A-829 J. Hamilton survey A-529

Landholding Agency: COE

Property Number: 31199010421

Status: Excess

Comment: 52.80 acres; most recent use—recreation

Suitable/To Be Excessed

Buildings (by State)

Massachusetts

Cuttyhunk Boathouse

South Shore of Cuttyhunk Pond

Gosnold Co: Dukes MA 02713-

Landholding Agency: DOT

Property Number: 87199310001

Status: Unutilized

Comment: 2700 sq. ft., wood frame, one story, needs rehab, limited utilities, off-site use only

Nauset Beach Light

Nauset Beach Co: Barnstable MA

Landholding Agency: DOT

Property Number: 87199420001

Status: Unutilized

Comment: 48 foot tower, cylindrical cast iron, most recent use—aid to navigation

Light Tower, Highland Light

Near Rt. 6, 9 miles south of Race Point

North Truro Co: Barnstable MA 02652-

Landholding Agency: DOT

Property Number: 87199430005

Status: Excess

Comment: 66 ft. tower, 14′9″ diameter, brick structure, scheduled to be vacated 9/94

Keepers Dwelling

Highland Light

Near Rt. 6, 9 miles south of Race Point

North Truro Co: Barnstable MA 02652-

Landholding Agency: DOT

Property Number: 87199430006

Status: Excess

Comment: 1160 sq. ft., 2-story wood frame, attached to light tower, scheduled to be vacated 9/94

Duplex Housing Unit

Highland Light

Near Rt. 6, 9 miles south of Race Point

North Truro Co: Barnstable MA 02652-

Landholding Agency: DOT

Property Number: 87199430007

Status: Excess Comment: 2 living units, 930 sq. ft. each, 1-story each, located on eroding ocean bluff, scheduled to be vacated 9/94

Nahant Towers

Nahant Co: Essex MA

Landholding Agency: DOT

Property Number: 87199530001

Status: Unutilized

Comment: 196 sq. ft., 8-story observation tower

South Dakota

Family Residence

Oahe Dam/Lake Oahe Proj

2412 East Reen St.

Pierre Co: SD 57501-

Landholding Agency: COE

Property Number: 31200040016

Status: Excess

Comment: 912 sq. ft., possible asbestos/lead paint, off-site use only

Family Residence

Oahe Dam/Lake Oahe Proj

914 South Arthur Ave

Pierre Co: SD 57501-

Landholding Agency: COE

Property Number: 31200040017

Status: Excess

Comment: 1248 sq. ft., possible asbestos/lead paint, off-site use only

Family Residence

Oahe Dam/Lake Oahe Proj

917 South McKinley Ave

Pierre Co: SD 57501-

Landholding Agency: COE

Property Number: 31200040018

Status: Excess

Comment: 1488 sq. ft., possible asbestos/lead paint, off-site use only

Land (by State)

Alaska

Gibson Cove Tract

Kodiak Co: AK 99619-

Landholding Agency: DOT

Property Number: 87199920001

Status: Unutilized

Comment: 37.55 acres, undeveloped land

Georgia

Lake Sidney Lanier

Co: Forsyth GA 30130-

Location: Located on Two Mile Creek adj. to State Route 369

Landholding Agency: COE

Property Number: 31199440010

Status: Unutilized

Comment: 0.25 acres, endangered plant species

Lake Sidney Lanier-3 parcels

Gainesville Co: Hall GA 30503-

Location: Between Gainesville H.S. and State Route 53 By-Pass

Landholding Agency: COE

Property Number: 31199440011

Status: Unutilized

Comment: 3 parcels totalling 5.17 acres, most recent use—buffer zone, endangered plant species

Indiana

Brookville Lake—Land

Liberty Co: Union IN 47353-

Landholding Agency: COE

Property Number: 31199440009

Status: Unutilized

Comment: 6.91 acres, limited utilities

Kansas

Parcel #1

Fall River Lake

Section 26

Co: Greenwood KS

Landholding Agency: COE

Property Number: 31199010065

Status: Unutilized

Comment: 126.69 acres; most recent use—recreation and leased cottage sites.

Parcel No. 2, El Dorado Lake

Approx. 1 mi east of the town of El Dorado

Co: Butler KS

Landholding Agency: COE

Property Number: 31199210005

Status: Unutilized

Comment: 11 acres, part of a relocated railroad bed, rural area

Massachusetts

Buffumville Dam

Flood Control Project

Gale Road

Carlton Co: Worcester MA 01540-0155

Location:

Portion of tracts B-200, B-248, B-251, B-204, B-247, B-200 and B-256

Landholding Agency: COE

Property Number: 31199010016

Status: Excess

Comment: 1.45 acres.

Minnesota

Tract #3

Lac Qui Parle Flood Control Project

County Rd. 13

Watson Co: Lac Qui Parle MN 56295-

Landholding Agency: COE

Property Number: 31199340006

Status: Unutilized

Comment: approximately 2.9 acres, fallow land

Tract #34

Lac Qui Parle Flood Control Project

Marsh Lake

Watson Co: Lac Qui Parle MN 56295-

Landholding Agency: COE

Property Number: 31199340007

Status: Unutilized

Comment: approx. 8 acres, fallow land

Tennessee

Tract D-456

Cheatham Lock and Dam

Ashland Co: Cheatham TN 37015-

Location: Right downstream bank of Sycamore Creek.

Landholding Agency: COE

Property Number: 31199010942

Status: Excess

Comment: 8.93 acres; subject to existing easements.

Texas

Corpus Christi Ship Channel

Corpus Christi Co: Neuces TX

Location: East side of Carbon Plant Road, approx. 14 miles NW of downtown Corpus Christi

Landholding Agency: COE

Property Number: 31199240001

Status: Unutilized

Comment: 4.4 acres, most recent use—farm land.

Unsuitable Properties

Buildings (by State)

Alabama

Dwelling A

USCG Mobile Pt. Station

Ft. Morgan

Gulfshores Co: Baldwin AL 36542-

Landholding Agency: OT

Property Number: 87199120001

Status: Excess

Reason: Floodway

Dwelling B

USCG Mobile Pt. Station

Ft. Morgan

Gulfshores Co: Baldwin AL 36542-

Landholding Agency: DOT

Property Number: 87199120002

Status: Excess

Reason: Floodway

Oil House

USCG Mobile Pt. Station

Ft. Morgan

Gulfshores Co: Baldwin AL 36542-

Landholding Agency: DOT

Property Number: 87199120003

Status: Excess

Reason: Floodway

Garage

USCG Mobile Pt. Station

Ft. Morgan

Gulfshores Co: Baldwin AL 36542-

Landholding Agency: DOT

Property Number: 87199120004

Status: Excess

Reason: Floodway

Shop Building

USCG Mobile Pt. Station

Ft. Morgan

Gulfshores Co: Baldwin AL 36542-

Landholding Agency: DOT

Property Number: 87199120005

Status: Excess

Reason: Floodway

Alaska

Bldg. 19

USCG Support Center

Kodiak Co: Kodiak Island AK 99619-5000

Landholding Agency: DOT

Property Number: 87199210128

Status: Excess

Reasons: Within airport runway clear zone Extensive deterioration; Secured Area

Bldg. 18

USCG Support Center

Kodiak Co: Kodiak Island AK 99619-5000

Landholding Agency: DOT

Property Number: 87199210132

Status: Excess

Reasons: Within airport runway clear zone Secured Area

GSA Number: U-ALAS-655A

Bldg. A512

USCG Support Center

Kodiak Co: Kodiak Island AK 99619-5000

Landholding Agency: DOT

Property Number: 87199210133

Status: Excess

Reasons: Within 2000 ft. of flammable or explosive material; Within airport runway clear zone; Secured Area

Bldg. R1, Holiday Beach

U.S. Coast Guard Support Center

Kodiak Co: Kodiak Island AK 99619-5014

Landholding Agency: DOT

Property Number: 87199310014

Status: Unutilized

Reason: Secured Area

Bldg. 624

U.S. Coast Guard Support Center

Kodiak Co: Kodiak Island AK 99619-5014

Landholding Agency: DOT

Property Number: 87199310021

Status: Unutilized

Reasons: Within airport runway clear zone; Secured Area

Bldg. 524A

USCG ISC Kodiak

Kodiak Co: Kodiak Is. Bor. AK 99619-

Landholding Agency: DOT

Property Number: 87199710004

Status: Excess

Reasons: Floodway; Secured Area

Bldg. R13, USCG ISC Kodiak

Holiday Beach

Kodiak Co: Kodiak Is Bor AK 99619-

Landholding Agency: DOT

Property Number: 87199720003

Status: Excess

Reason: Secured Area

Bldg. 172, USCG ISC Kodiak

Nyman's Peninsula

Kodiak Co: Kodiak Is Bor AK 99619-

Landholding Agency: DOT

Property Number: 87199720004

Status: Excess

Reason: Secured Area

Bldg. 160, USCG ISC Kodiak

Comsta/Buskin Lake

Kodiak Co: Kodiak Is Bor AK 99619-

Landholding Agency: DOT

Property Number: 87199720005

Status: Excess

Reasons: Secured Area; Extensive deterioration

“Gazebo”

Coast Guard

Cordova Co: AK 99574-

Landholding Agency: DOT

Property Number: 87200010002

Status: Unutilized

Reason: Extensive deterioration

Boathouse

Coast Guard Station Ketchikan

Ketchikan Co: AK 99901-

Landholding Agency: DOT

Property Number: 87200020001

Status: Unutilized

Reasons: Within 2000 ft. of flammable or explosive material; Secured Area

Bldg. 23

USCG Integrated Support Command

Kodiak Co: Kodiak Island AK 99619-

Landholding Agency: DOT

Property Number: 87200110009

Status: Excess

Reason: Extensive deterioration

Bldg. 25

USCG Integrated Support Command

Kodiak Co: Kodiak Island AK 99619-

Landholding Agency: DOT

Property Number: 87200110010

Status: Excess

Reason: Extensive deterioration

Bldg. 53

USCG Integrated Support Command

Kodiak Co: Kodiak Island AK 99619-

Landholding Agency: DOT

Property Number: 87200110011

Status: Excess

Reasons: Within 2000 ft. of flammable or explosive material; Secured Area; Extensive deterioration

Bldg. 52

Integrated Support Command

Kodiak Co: AK 99615-

Landholding Agency: DOT

Property Number: 87200110012

Status: Unutilized

Reason: Extensive deterioration

Barracks

LORAN Station

Sitkinak Island Co: AK

Landholding Agency: DOT

Property Number: 87200120007

Status: Unutilized

Reasons: Within 2000 ft. of flammable or explosive material; Floodway; Extensive deterioration

Incinerator Bldg.

LORAN Station

Sitkinak Island Co: AK-

Landholding Agency: DOT

Property Number: 87200120008

Status: Unutilized

Reasons: Within 2000 ft. of flammable or explosive material; Floodway; Extensive deterioration

Signal/Power Bldg.

LORAN Station

Sitkinak Island Co: AK-

Landholding Agency: DOT

Property Number: 87200120009

Status: Unutilized

Reasons: Within 2000 ft. of flammable or explosive material; Floodway; Extensive deterioration

Transmitter Bldg.

LORAN Station

Sitkinak Island Co: AK-

Landholding Agency: DOT

Property Number: 87200120010

Status: Unutilized

Reasons: Within 2000 ft. of flammable or explosive material; Floodway; Extensive deterioration

Waste Water Treatment Bldg.

LORAN Station

Sitkinak Island Co: AK -

Landholding Agency: DOT

Property Number: 87200120011

Status: Unutilized

Reasons: Within 2000 ft. of flammable or explosive material; Floodway; Extensive deterioration

Arkansas

Dwelling

Bull Shoals Lake/Dry Run Road

Oakland Co: Marion AR 72661-

Landholding Agency: COE

Property Number: 31199820001

Status: Unutilized

Reason: Extensive deterioration

California

Soil & Materials Testing Lab

Sausalito Co: CA 00000-

Landholding Agency: COE

Property Number: 31199920002

Status: Excess

Reason: contamination

Parker Dam Govt Housing Camp

Township 2 North

San Bernardino Co: CA 92401-

Landholding Agency: Interior

Property Number: 61199930001

Status: Excess

Reason: Extensive deterioration

Bldg. 208

Whiskey Creek

Whiskeytown Co: Shasta CA 96095-

Landholding Agency: Interior

Property Number: 61200120027

Status: Unutilized

Reason: Extensive deterioration

Bldg. 4204

8178 River Street

Yosemite Co: Mariposa CA 95389-

Landholding Agency: Interior

Property Number: 61200130005

Status: Unutilized

Reason: Extensive deterioration

Bldg. 4015

7935 Forest Drive

Yosemite Co: Mariposa CA 95389-

Landholding Agency: Interior

Property Number: 61200130006

Status: Unutilized

Reason: Extensive deterioration

Madden Garage 2625 Spelt Rd.

Yosemite Co: Mariposa CA 95389-

Landholding Agency: Interior

Property Number: 61200130007

Status: Unutilized

Reason: Extensive deterioration

Bldg. 4019

2625 Spelt Rd.

Yosemite Co: Mariposa CA 95389-

Landholding Agency: Interior

Property Number: 61200130008

Status: Unutilized

Reason: Extensive deterioration

Bldg. 6202/D-2

Davison Ranch Complex

Orick Co: Humboldt CA-

Landholding Agency: Interior

Property Number: 61200130009

Status: Excess

Reason: Extensive deterioration

Bldgs. 11070, 11080

Naval Air Weapons Station

China Lake Co: CA 93555-6100

Landholding Agency: Navy

Property Number: 77200130025

Status: Excess

Reason: Extensive deterioration

10 Bldg.

USCG Station Humboldt Bay

Samoa Co: Humboldt CA 95564-9999

Landholding Agency: DOT

Property Number: 87199440027

Status: Excess

Reason: Extensive deterioration

Comment: Land to be relinquished to BLM (Public Domain Land)

Colorado

Alemeda Facility

350 S. Santa Fe Drive

Denver Co: Denver CO 80223-

Landholding Agency: DOT

Property Number: 87199010014

Status: Unutilized

Reason: Other environmental

Comment: contamination

Connecticut

Hezekiah S. Ramsdell Farm

West Thompson Lake

North Grosvenordale Co: Windham CT 06255-9801

Landholding Agency:: COE

Property Number: 31199740001

Status: Unutilized

Reasons: Floodway, Extensive deterioration

Falkner Island Light

U.S. Coast Guard

Guilford Co: New Haven CT 06512-

Landholding Agency: DOT

Property Number: 87199240031

Status: Unutilized

Reason: Floodway

Florida

Bldg. #3, Recreation Cottage

USCG Station

Marathon Co: Monroe FL 33050-

Landholding Agency: DOT

Property Number: 87199210008

Status: Unutilized

Reasons: Floodway, Secured Area

Bldg. 103, Trumbo Point

Key West Co: Monroe FL 33040-

Landholding Agency: DOT

Property Number: 87199230001

Status: Unutilized

Reasons: Floodway, Secured Area

Exchange Building

St. Petersburg Co: Pinellas FL 33701-

Landholding Agency: DOT

Property Number: 87199410004

Status: Unutilized

Reason: Floodway

9988 Keepers Quarters A

Cape San Blas

Port St. Joe Co: Gulf FL

Landholding Agency: DOT

Property Number: 87199440009

Status: Underutilized

Reasons: Floodway, Secured Area

9989 Keepers Quarters B

Cape San Blas

Port St. Joe Co: Gulf FL

Landholding Agency: DOT

Property Number: 87199440010

Status: Underutilized

Reasons: Floodway, Secured Area

9990 Bldg.

Cape San Blas

Port St. Joe Co: Gulf FL

Landholding Agency: DOT

Property Number: 87199440011

Status: Underutilized

Reasons: Floodway, Secured Area

9991 Plant Bldg.

Cape San Blas

Port St. Joe Co: Gulf FL

Landholding Agency: DOT

Property Number: 87199440012

Status: Underutilized

Reasons: Floodway, Secured Area

9992 Shop Bldg.

Cape San Blas

Port St. Joe Co: Gulf FL

Landholding Agency: DOT

Property Number: 87199440013

Status: Underutilized

Reasons: Floodway, Secured Area

9993 Admin. Bldg.

Cape San Blas

Port St. Joe Co: Gulf FL

Landholding Agency: DOT

Property Number: 87199440014

Status: Underutilized

Reasons: Floodway, Secured Area

9994 Water Pump Bldg.

Cape San Blas

Port St. Joe Co: Gulf FL

Landholding Agency: DOT

Property Number: 87199440015

Status: Underutilized

Reasons: Floodway, Secured Area

Storage Bldg.

Cape San Blas

Port St. Joe Co: Gulf FL

Landholding Agency: DOT

Property Number: 87199440016

Status: Underutilized

Reasons: Floodway, Secured Area

9999 Storage Bldg.

Cape San Blas

Port St. Joe Co: Gulf FL

Landholding Agency: DOT

Property Number: 87199440017

Status: Underutilized

Reasons: Floodway, Secured Area

3 Bldgs. and Land

Peanut Island Station

Riveria Beach Co: Palm Beach FL 33419-0909

Landholding Agency: DOT

Property Number: 87199510009

Status: Unutilized

Reasons: Floodway, Secured Area

Cape St. George Lighthouse

Co: Franklin FL 32328-

Landholding Agency: DOT

Property Number: 87199640002

Status: Unutilized

Reason: Extensive deterioration

Maint/Carpentry Shop

USCG Station

St. Petersburg Co: Pinellas FL 33701-

Landholding Agency: DOT

Property Number: 87200120001

Status: Excess

Reasons: Secured Area, Extensive deterioration

Georgia

Coast Guard Station

St. Simons Island

Co: Glynn GA 31522-0577

Landholding Agency: DOT

Property Number: 87199540002

Status: Unutilized

Reason: Extensive deterioration

Hawaii

Bldg. 1740

U.S. Coast Guard Air Station

Barbers Point

Honolulu Co: HI 96862-5800

Landholding Agency: DOT

Property Number: 87199910002

Status: Unutilized

Reason: Secured Area

Phase II Lift Station

Red Hill

Honolulu Co: HI 96818-

Landholding Agency: DOT

Property Number: 87200040001

Status: Unutilized

Reason: Within 2000 ft. of flammable or explosive material

Bldg. 1820

Coast Guard ISC

Honolulu Co: HI 96819-

Landholding Agency: DOT

Property Number: 87200040002

Status: Unutilized

Reasons: Within 2000 ft. of flammable or explosive material, Extensive deterioration

Idaho

Bldg. AFD0070

Albeni Falls Dam

Oldtown Co: Bonner ID 83822-

Landholding Agency: COE

Property Number: 31199910001

Status: Unutilized

Reason: Extensive deterioration

Illinois

Calumet Harbor Station

U.S. Coast Guard

Chicago Co: Cook IL

Landholding Agency: DOT

Property Number: 87199310005

Status: Excess

Reason: Secured Area

Indiana

Brookville Lake—Bldg.

Brownsville Rd. in Union

Liberty Co: Union IN 47353-

Landholding Agency: COE

Property Number: 31199440004

Status: Excess

Reason: Extensive deterioration

Kentucky

Spring House

Kentucky River Lock and Dam No. 1

Highway 320

Carrollton Co: Carroll KY 41008-

Landholding Agency: COE

Property Number: 21199040416

Status: Unutilized

Reason: Spring House

Building

Kentucky River Lock and Dam No. 4

1021 Kentucky Avenue

Frankfort Co: Franklin KY 40601-9999

Landholding Agency: COE

Property Number: 21199040417

Status: Unutilized

Reason: Coal Storage

Building

Kentucky River Lock and Dam No. 4

1021 Kentucky Avenue

Frankfort Co: Franklin KY 40601-9999

Landholding Agency: COE

Property Number: 21199040418

Status: Unutilized

Reason: Coal Storage

6-Room Dwelling

Green River Lock and Dam No. 3

Rochester Co: Butler KY 42273-

Location: Off State Hwy 369, which runs off of Western Ky. Parkway

Landholding Agency: COE

Property Number: 31199120010

Status: Unutilized

Reason: Floodway

2-Car Garage

Green River Lock and Dam No. 3

Rochester Co: Butler KY 42273-

Location: Off State Hwy 369, which runs off of Western Ky. Parkway

Landholding Agency: COE

Property Number: 31199120011

Status: Unutilized

Reason: Floodway

Office and Warehouse

Green River Lock and Dam No. 3

Rochester Co: Butler KY 42273-

Location: Off State Hwy 369, which runs off of Western Ky. Parkway

Landholding Agency: COE

Property Number: 31199120012

Status: Unutilized

Reason: Floodway

2 Pit Toilets

Green River Lock and Dam No. 3

Rochester Co: Butler KY 42273-

Landholding Agency: COE

Property Number: 31199120013

Status: Unutilized

Reason: Floodway

Maine

Supply Bldg., Coast Guard

Southwest Harbor

Southwest Harbor Co: Hancock ME 04679-5000

Landholding Agency: DOT

Property Number: 87199240005

Status: Unutilized

Reason: Floodway

Base Exchange, Coast Guard

Southwest Harbor

Southwest Harbor Co: Hancock ME 04679-5000

Landholding Agency: DOT

Property Number: 87199240006

Status: Unutilized

Reason: Floodway

Engineering Shop, Coast Guard

Southwest Harbor

Southwest Harbor Co: Hancock ME 04679-5000

Landholding Agency: DOT

Property Number: 87199240007

Status: Unutilized

Reason: Floodway

Storage Bldg., Coast Guard

Southwest Harbor

Southwest Harbor Co: Hancock ME 04679-5000

Landholding Agency: DOT

Property Number: 87199240008

Status: Unutilized

Reason: Floodway

Squirrel Point Light

U.S. Coast Guard

Phippsburg Co: Sayadahoc ME 04530-

Landholding Agency: DOT

Property Number: 87199240032

Status: Unutilized

Reason: Floodway

Keepers Dwelling

Heron Neck Light, U.S. Coast Guard

Vinalhaven Co: Knox ME 04841-

Landholding Agency: DOT

Property Number: 87199240035

Status: Unutilized

Reason: Extensive deterioration

Fort Popham Light

Phippsburg Co: Sagadahoc ME 04562-

Landholding Agency: DOT

Property Number: 87199320024

Status: Unutilized

Reason: Extensive deterioration

Nash Island Light

U.S. Coast Guard

Addison Co: Washington ME 04606-

Landholding Agency: DOT

Property Number: 87199420005

Status: Unutilized

Reason: Inaccessible

Bldg.—South Portland Base

U.S. Coast Guard

S. Portland Co: Cumberland ME 04106-

Landholding Agency: DOT

Property Number: 87199420006

Status: Unutilized

Reason: Secured Area

Garage—Boothbay Harbor Stat.

Boothbay Harbor Co: Lincoln ME 04538-

Landholding Agency: DOT

Property Number: 87199430001

Status: Unutilized

Reason: Secured Area

Maryland

Bldgs. 38-39, 41, 43-46, 56

U.S. Coast Guard Yard

Baltimore MD 21226-

Landholding Agency: DOT

Property Number: 87199540005

Status: Unutilized

Reasons: Within 2000 ft. of flammable or explosive material, Secured Area, Extensive deterioration

Bldg. 53

U.S. Coast Guard Yard

Baltimore MD 21226-

Landholding Agency: DOT

Property Number: 87199540006

Status: Unutilized

Reasons: Within 2000 ft. of flammable or explosive material, Secured Area, Extensive deterioration

Bldg. 6

U.S. Coast Guard Yard, 2401 Hawkins Point Rd.

Baltimore MD 21226-1797

Landholding Agency: DOT

Property Number: 87199620001

Status: Excess

Reasons: Within 2000 ft. of flammable or explosive material; Secured Area

Bldg. 59

U.S. Coast Guard Yard, 2401 Hawkins Point Rd.

Baltimore MD 21226-1797

Landholding Agency: DOT

Property Number: 87199620002

Status: Excess

Reasons: Within 2000 ft. of flammable or explosive material, Secured Area

5 Bldgs.

USCG Yard

#9, 21, 23, 52, 57

Baltimore Co: MD 21226-

Landholding Agency: DOT

Property Number: 87200120002

Status: Unutilized

Reason: Extensive deterioration

Massachusetts

Bldg. 4, USCG Support Center

Commercial Street

Boston Co: Suffolk MA 02203-

Landholding Agency: DOT

Property Number: 87199240001

Status: Underutilized

Reason: Secured Area

Eastern Point Light

U.S. Coast Guard

Gloucester Co: Essex MA 01930-

Landholding Agency: DOT

Property Number: 87199240029

Status: Unutilized

Reasons: Floodway, Secured Area

Storage Shed

Highland Light

N. Truro Co: Barnstable MA 02652-

Location: DeSoto Johnson KS 66018-

Landholding Agency: DOT

Property Number: 87199430004

Status: Unutilized

Reason: Extensive deterioration

Michigan

Boathouse

Coast Guard Station

East Tawas Co: Iosco MI 48730-

Landholding Agency: DOT

Property Number: 87200040003

Status: Unutilized

Reasons: Secured Area, Extensive deterioration

Storage Shed (OS2)

USCG Station

Port Huron Co: St. Clair MI 48060-

Landholding Agency: DOT

Property Number: 87200110036

Status: Unutilized

Reasons: Floodway, Secured Area

Station Bldg.

USCG Station

Manistee Co: MI 49660-

Landholding Agency: DOT

Property Number: 87200120003

Status: Unutilized

Reasons: Floodway, Secured Area

Garage Bldg.

USCG Station

Manistee Co: MI 49660-

Landholding Agency: DOT

Property Number: 87200120004

Status: Unutilized

Reasons: Floodway, Secured Area

Shed/Pump Bldg.

USCG Station

Manistee Co: MI 49660

Landholding Agency: DOT

Property Number: 87200120005

Status: Unutilized

Reasons: Floodway, Secured Area

Storage Bldg.

USCG Station

Manistee Co: MI 49660-

Landholding Agency: DOT

Property Number: 87200120006

Status: Unutilized

Reasons: Floodway, Secured Area

Mississippi

Bldg. 12

Naval Construction Battalion Center

Gulfport Co: Harrison MS 39501-

Landholding Agency: Navy

Property Number: 77200130029

Status: Unutilized

Reason: Secured Area

Bldg. 23

Naval Construction Battalion Center

Gulfport Co: Harrison MS 39501-

Landholding Agency: Navy

Property Number: 77200130030

Status: Unutilized

Reason: Secured Area

Bldg. 36

Naval Construction Battalion Center

Gulfport Co: Harrison MS 39501-

Landholding Agency: Navy

Property Number: 77200130031

Status: Unutilized

Reasons: Secured Area, Extensive deterioration

Bldg. 141

Naval Construction Battalion Center

Gulfport Co: Harrison MS 39501-

Landholding Agency: Navy

Property Number: 77200130032

Status: Unutilized

Reasons: Secured Area, Extensive deterioration

Bldg. 172

Naval Construction Battalion Center

Gulfport Co: Harrison MS 39501-

Landholding Agency: Navy

Property Number: 77200130033

Status: Unutilized

Reasons: Secured Area, Extensive deterioration

Bldg. 185

Naval Construction Battalion Center

Gulfport Co: Harrison MS 39501-

Landholding Agency: Navy

Property Number: 77200130034

Status: Unutilized

Reasons: Secured Area, Extensive deterioration

Bldg. 220

Naval Construction Battalion Center

Gulfport Co: Harrison MS 39501-

Landholding Agency: Navy

Property Number: 77200130035

Status: Unutilized

Reasons: Secured Area, Extensive deterioration

Bldg. 236

Naval Construction Battalion Center

Gulfport Co: Harrison MS 39501-

Landholding Agency: Navy

Property Number: 77200130036

Status: Unutilized

Reasons: Secured Area, Extensive deterioration

Structure 427

Naval Construction Battalion Center

Gulfport Co: Harrison MS 39501-

Landholding Agency: Navy

Property Number: 77200130037

Status: Unutilized

Reason: Secured Area

Natchez Moorings

82 L.E. Berry Road

Natchez Co: Adams MS 39121-

Landholding Agency: DOT

Property Number: 87199340002

Status: Unutilized

Reason: Extensive deterioration

Missouri

Rec Office

Harry S. Truman Dam & Reservoir

Osceola Co: St. Clair MO 64776-

Landholding Agency: COE

Property Number: 31200110001

Status: Unutilized

Reason: Extensive deterioration

Privy/Nemo Park

Pomme de Terre Lake

Hermitage Co: MO 65668-

Landholding Agency: COE

Property Number: 31200120001

Status: Excess

Reason: Extensive deterioration

Privy No. 1/Bolivar Park

Pomme de Terre Lake

Hermitage Co: MO 65668-

Landholding Agency: COE

Property Number: 31200120002

Status: Excess

Reason: Extensive deterioration

Privy No. 2/Bolivar Park

Pomme de Terre Lake

Hermitage Co: MO 65668-

Landholding Agency: COE

Property Number: 31200120003

Status: Excess

Reason: Extensive deterioration

New Jersey

Ames Cabin

Old Mine Road

Walpack Co: Sussex NJ 07881-

Landholding Agency: Interior

Property Number: 61200120001

Status: Unutilized

Reason: Extensive deterioration

Jennings House

Old Mine Road

Walpack Co: Sussex NJ 07881-

Landholding Agency: Interior

Property Number: 61200120002

Status: Unutilized

Reason: Extensive deterioration

Lester Cabin

Old Mine Road

Walpack Co: Sussex NJ 07881-

Landholding Agency: Interior

Property Number: 61200120003

Status: Unutilized

Reason: Extensive deterioration

Cassidy Cabin

Blue Mountain Lakes Rd.

Layton Co: Sussex NJ 07851-

Landholding Agency: Interior

Property Number: 61200120004

Status: Unutilized

Reason: Extensive deterioration

Chalker House & Garage

Skyline Drive

Layton Co: Sussex NJ 07851-

Landholding Agency: Interior

Property Number: 61200120005

Status: Unutilized

Reason: Extensive deterioration

Waldman House

14 Walpack-Flatbrookville Rd.

Layton Co: Sussex NJ 07851-

Landholding Agency: Interior

Property Number: 61200120006

Status: Unutilized

Reason: Extensive deterioration

Myra House

off Mountain Rd.

Smithfield Twnshp Co: Monroe NJ 18327-

Landholding Agency: Interior

Property Number: 61200120007

Status: Unutilized

Reason: Extensive deterioration

Piers and Wharf

Station Sandy Hook

Highlands Co: Monmouth NJ 07732-5000

Landholding Agency: DOT

Property Number: 87199240009

Status: Unutilized

Reasons: Secured Area Extensive deterioration

Chapel Hill Front Range Light Tower

Middletown Co: Monmouth NJ 07748-

Landholding Agency DOT

Property Number: 87199440002

Status: Unutilized

Reason: Skeletal tower

Bldg. 103

U.S. Coast Guard Station Sandy Hook

Middleton Co: Monmouth NJ 07737-

Landholding Agency: DOT

Property Number: 87199610002

Status: Unutilized

Reason: Secured Area

Ship Stg. Bldg.

USCG Training Center

Cape May Co: NJ 08204-5002

Landholding Agency: DOT

Property Number: 87200110018

Status: Excess

Reason: Secured Area

Exchange Whse

USCG Training Center

Cape May Co: NJ 08204-5002

Landholding Agency: DOT

Property Number: 87200110019

Status: Excess

Reason: Secured Area

Patrol Boat Bldg.

USCG Training Center

Cape May Co: NJ 08204-5002

Landholding Agency: DOT

Property Number: 87200110020

Status: Excess

Reason: Secured Area

Station Bldg.

USCG Training Center

Cape May Co: NJ 08204-5002

Landholding Agency: DOT

Property Number: 87200110021

Status: Excess

Reason: Secured Area

ANT Bldg.

USCG Training Center

Cape May Co: NJ 08204-5002

Landholding Agency: DOT

Property Number: 87200110022

Status: Excess

Reason: Secured Area

Quarters C

USCG Training Center

Cape May Co: NJ 08204-5002

Landholding Agency: DOT

Property Number: 87200120012

Status: Excess

Reason: Secured Area

Central Heating Plant

USCG Training Center

Cape May Co: NJ 08204-5002

Landholding Agency: DOT

Property Number: 87200120013

Status: Excess

Reason: Secured Area

Hangar/Shop

USCG Training Center

Cape May Co: NJ 08204-5002

Landholding Agency: DOT

Property Number: 87200120014

Status: Excess

Reason: Secured Area

New York

Warehouse

Whitney Lake Project

Whitney Point Co: Broome NY 13862-0706

Landholding Agency: COE

Property Number: 31199630007

Status: Unutilized

Reason: Extensive deterioration

2 Buildings

Ant Saugerties

Saugerties Co: Ulster NY 12477-

Landholding Agency: DOT

Property Number: 87199230005

Status: Unutilized

Reason: Extensive deterioration

Bldg. 606, Fort Totten

New York Co: Queens NY 11359-

Landholding Agency: DOT

Property Number: 87199240020

Status: Unutilized

Reason: Secured Area

Bldg. 607, Fort Totten

New York Co: Queens NY 11359-

Landholding Agency: DOT

Property Number: 87199240021

Status: Unutilized

Reasons: Extensive deterioration Secured Area

Bldg. 605, Fort Totten

New York Co: Queens NY 11359-

Landholding Agency: DOT

Property Number: 87199240022

Status: Unutilized

Reasons: Extensive deterioration Secured Area

Eatons Neck Station

U.S. Coast Guard

Huntington Co: Suffolk NY 11743-

Landholding Agency: DOT

Property Number: 87199310003

Status: Unutilized

Reasons: Secured Area Extensive deterioration

Bldg. 517, USCG Support Center

Governors Island Co: Manhattan NY 10004-

Landholding Agency: DOT

Property Number: 87199320025

Status: Unutilized

Reason: Secured Area

Bldg. 138

U.S. Coast Guard Support Center

Governors Island Co: Manhattan NY 10004-

Landholding Agency: DOT

Property Number: 87199410003

Status: Unutilized

Reason: Secured Area

Bldg. 830

U.S. Coast Guard

Governors Island Co: Manhattan NY 10004-

Landholding Agency: DOT

Property Number: 87199420004

Status: Unutilized

Reason: Secured Area

Bldg. 8

Rosebank—Coast Guard Housing

Staten Island Co: Richmond NY 10301-

Landholding Agency: DOT

Property Number: 87199530009

Status: Unutilized

Reason: Secured Area

Bldg. 7

Rosebank—Coast Guard Housing

Staten Island Co: Richmond NY 10301-

Landholding Agency: DOT

Property Number: 87199530010

Status: Unutilized

Reasons: Secured Area Extensive deterioration

Bldg. 222

Fort Wadsworth

Staten Island Co: Richmond NY 10305-

Landholding Agency: DOT

Property Number: 87199620003

Status: Unutilized

Reason: Secured Area

Bldg. 223

Fort Wadsworth

Staten Island Co: Richmond NY 10305-

Landholding Agency: DOT

Property Number: 87199620004

Status: Unutilized

Reason: Secured Area

Bldg. 205

Fort Wadsworth

Staten Island Co: Richmond NY 10305-

Landholding Agency: DOT

Property Number: 87199620005

Status: Unutilized

Reason: Secured Area

Bldg. 9

U.S. Coast Guard—Rosebank

Staten Island Co: Richmond NY 10301-

Landholding Agency: DOT

Property Number: 87199630027

Status: Excess

Reason: Secured Area

Bldg. 10

U.S. Coast Guard—Rosebank

Staten Island Co: Richmond NY 10301-

Landholding Agency: DOT

Property Number: 87199630028

Status: Excess

Reason: Secured Area

Bldg. 206, Rosebank

Staten Island Co: Richmond NY 10301-

Landholding Agency: DOT

Property Number: 87199630029

Status: Excess

Reason: Secured Area

Cottage

Coast Guard Station

Wellesley Island Co: Jefferson NY 13640-

Landholding Agency: DOT

Property Number: 87199940001

Status: Unutilized

Reasons: Secured Area, Extensive deterioration

North Carolina

Quarters 323

Great Smoky Mtns Natl Pk

Balsam Mtn Co: Swain NC 27819-

Landholding Agency: Interior

Property Number: 61200120022

Status: Excess

Reason: Extensive deterioration

Group Cape Hatteras

Boiler Plant

Buxton Co: Dare NC 27902-0604

Landholding Agency: DOT

Property Number: 87199240018

Status: Unutilized

Reason: Secured Area

Group Cape Hatteras

Bowling Alley

Buxton Co: Dare NC 27902-0604

Landholding Agency: DOT

Property Number: 87199240019

Status: Unutilized

Reason: Secured Area

Bldg. 54

Group Cape Hatteras

Buston Co: Dare NC 27902-0604

Landholding Agency: DOT

Property Number: 87199340004

Status: Unutilized

Reason: Secured Area

Bldg. 83

Group Cape Hatteras

Buxton Co: Dare NC 27902-0604

Landholding Agency: DOT

Property Number: 87199340005

Status: Unutilized

Reason: Secured Area

Water Tanks

Group Cape Hatteras

Buxton Co: Dare NC 27902-0604

Landholding Agency: DOT

Property Number: 87199340006

Status: Unutilized

Reason: Secured Area

USCG Gentian (WLB 290)

Fort Macon State Park

Atlantic Beach Co: Carteret NC 27601-

Landholding Agency: DOT

Property Number: 87199420007

Status: Excess

Reason: Secured Area

Unit #71

Buxton Annex, Cape Kendrick Circle

Buxton Co: Dare NC 27920-

Landholding Agency: DOT

Property Number: 87199530011

Status: Unutilized

Reason: Floodway

Unit #72

Buxton Annex, Cape Kendrick Circle

Buxton Co: Dare NC 27920-

Landholding Agency: DOT

Property Number: 87199530012

Status: Unutilized

Reason: Floodway

Unit #73

Buxton Annex, Cape Kendrick Circle

Buxton Co: Dare NC 27920-

Landholding Agency: DOT

Property Number: 87199530013

Status: Unutilized

Reason: Floodway

Unit #74

Buxton Annex, Cape Kendrick Circle

Buxton Co: Dare NC 27920-

Landholding Agency: DOT

Property Number: 87199530014

Status: Unutilized

Reason: Floodway

Unit #75

Buxton Annex, Cape Kendrick Circle

Buxton Co: Dare NC 27920-

Landholding Agency: DOT

Property Number: 87199530015

Status: Unutilized

Reason: Floodway

Unit #63

Buxton Annex, Anna May Court

Buxton Co: Dare NC 27920-

Landholding Agency: DOT

Property Number: 87199530016

Status: Unutilized

Reason: Floodway

Unit #64

Buxton Annex, Anna May Court

Buxton Co: Dare NC 27920-

Landholding Agency: DOT

Property Number: 87199530017

Status: Unutilized

Reason: Floodway

Unit #76

Buxton Annex, Anna May Court

Buxton Co: Dare NC 27920-

Landholding Agency: DOT

Property Number: 87199530018

Status: Unutilized

Reason: Floodway

Unit #68

Buxton Annex, Anna May Court

Buxton Co: Dare NC 27920-

Landholding Agency: DOT

Property Number: 87199530019

Status: Unutilized

Reason: Floodway

Unit #69

Buxton Annex, Anna May Court

Buxton Co: Dare NC 27920-

Landholding Agency: DOT

Property Number: 87199530020

Status: Unutilized

Reason: Floodway

Unit #70

Buxton Annex, Anna May Court

Buxton Co: Dare NC 27920-

Landholding Agency: DOT

Property Number: 87199530021

Status: Unutilized

Reason: Floodway

Unit #77

Buxton Annex, Old Lighthouse Road

Buxton Co: Dare NC 27920-

Landholding Agency: DOT

Property Number: 87199530022

Status: Unutilized

Reason: Floodway

Unit #78

Buxton Annex, Old Lighthouse Road

Buxton Co: Dare NC 27920-

Landholding Agency: DOT

Property Number: 87199530023

Status: Unutilized

Reason: Floodway

Bldg. 53

Coast Guard Support Center

Elizabeth City Co: Pasquotank NC 27909-5006

Landholding Agency: DOT

Property Number: 87199630022

Status: Unutilized

Reason: Secured Area

Ohio

Lab

Ohio River Division Laboratories

Mariemont Co: Hamilton OH 15227-4217

Landholding Agency: COE

Property Number: 31199510002

Status: Unutilized

Reason: Secured Area

Storage Facility

Ohio River Division Laboratories

Mariemont Co: Hamilton OH 15227-4217

Landholding Agency: COE

Property Number: 31199510003

Status: Unutilized

Reason: Secured Area

Office Building

Ohio River Division Laboratories

Mariemont Co: Hamilton OH 15227-4217

Landholding Agency: COE

Property Number: 31199510004

Status: Unutilized

Reason: Secured Area

Oregon

Bldg.

366 E. Hurlburt

Hermiston Co: Umatilla OR 97838-

Landholding Agency: Interior

Property Number: 61200110007

Status: Unutilized

Reason: Extensive deterioration

Bldg. 8

USCG Tongue Point Moorings

Astoria Co: OR 97103-2099

Landholding Agency: DOT

Property Number: 87199910001

Status: Unutilized

Reason: Extensive deterioration

Duplex

Cape Blanco

Sixes Co: Curry OR 97465-

Landholding Agency: DOT

Property Number: 87199940002

Status: Unutilized

Reason: Extensive deterioration

Pennsylvania

Schneider Cottage

Route 209

Dingman's Ferry Co: Pike PA 18328-

Landholding Agency: Interior

Property Number: 61200120008

Status: Unutilized

Reason: Extensive deterioration

Schneider Farmhouse

Route 209

Dingman's Ferry Co: Pike PA 18328-

Landholding Agency: Interior

Property Number: 61200120009

Status: Unutilized

Reason: Extensive deterioration

Schneider Garage/Shop

Route 209

Dingman's Ferry Co: Pike PA 18328-

Landholding Agency: Interior

Property Number: 61200120010

Status: Unutilized

Reason: Extensive deterioration

Vayda House & Garage

Mary Stuart Rd.

Dingman's Ferry Co: Pike PA 18328-

Landholding Agency: Interior

Property Number: 61200120011

Status: Unutilized

Reason: Extensive deterioration

Puerto Rico

NAFA Warehouse

U.S. Coast Guard Air Station Borinquen

Aquadilla PR 00604-

Landholding Agency: DOT

Property Number: 87199310011

Status: Unutilized

Reason: Secured Area

Storage Equipment Bldg.

U.S. Coast Guard Air Station Borinquen

Aquadilla PR 00604-

Landholding Agency: DOT

Property Number: 87199330001

Status: Unutilized

Reason: Secured Area

Bldg. 115

U.S. Coast Guard Base

San Juan PR 00902-2029

Landholding Agency: DOT

Property Number: 87199510001

Status: Unutilized

Reason: Secured Area

Bldg. 117

U.S. Coast Guard Base

San Juan PR 00902-2029

Landholding Agency: DOT

Property Number: 87199510002

Status: Unutilized

Reason: Secured Area

Bldg. 118

U.S. Coast Guard Base

San Juan PR 00902-2029

Landholding Agency: DOT

Property Number: 87199510003

Status: Unutilized

Reason: Secured Area

Bldg. 119

U.S. Coast Guard Base

San Juan PR 00902-2029

Landholding Agency: DOT

Property Number: 87199510004

Status: Unutilized

Reason: Secured Area

Bldg. 120

U.S. Coast Guard Base

San Juan PR 00902-2029

Landholding Agency: DOT

Property Number: 87199510005

Status: Unutilized

Reason: Secured Area

Bldg. 122

U.S. Coast Guard Base

San Juan PR 00902-2029

Landholding Agency: DOT

Property Number: 87199510006

Status: Unutilized

Reason: Secured Area

Bldg. 128

U.S. Coast Guard Base

San Juan PR 00902-2029

Landholding Agency: DOT

Property Number: 87199510007

Status: Unutilized

Reason: Secured Area

Bldg. 129

U.S. Coast Guard Base

San Juan PR 00902-2029

Landholding Agency: DOT

Property Number: 87199510008

Status: Unutilized

Reason: Secured Area

Rhode Island

Station Point Judith Pier

Narranganset Co: Washington RI 02882-

Landholding Agency: DOT

Property Number: 87199310002

Status: Unutilized

Reason: Extensive deterioration

South Dakota

Mobile Home

Tract L-1295

Oahe Dam

Potter Co: SD 00000-

Landholding Agency: COE

Property Number: 31200030001

Status: Excess

Reason: Extensive deterioration

Tennessee

Bldg. 204

Cordell Hull Lake and Dam Project.

Defeated Creek Recreation Area

Carthage Co: Smith TN 37030-

Location: US Highway 85

Landholding Agency: COE

Property Number: 31199011499

Status: Unutilized

Reason: Floodway

Tract 2618 (Portion)

Cordell Hull Lake and Dam Project

Roaring River Recreation Area

Gainesboro Co: Jackson TN 38562-

Location: TN Highway 135

Landholding Agency: COE

Property Number: 31199011503

Status: Underutilized

Reason: Floodway

Water Treatment Plant

Dale Hollow Lake & Dam Project

Obey River Park, State Hwy 42

Livingston Co: Clay TN 38351-

Landholding Agency: COE

Property Number: 31199140011

Status: Excess

Reason: Water treatment plant

Water Treatment Plant

Dale Hollow Lake & Dam Project

Lillydale Recreation Area, State Hwy 53

Livingston Co: Clay TN 38351-

Landholding Agency: COE

Property Number: 31199140012

Status: Excess

Reason: Water treatment plant

Water Treatment Plant

Dale Hollow Lake & Dam Project

Willow Grove Recreational Area, Hwy No. 53

Livingston Co: Clay TN 38351-

Landholding Agency: COE

Property Number: 31199140013

Status: Excess

Reason: Water treatment plant

5 Bldgs.

Oak Ridge National Lab

#7811, 7819, 7833, 7852, 7860

Oak Ridge Co: Roane TN 37831-

Landholding Agency: Energy

Property Number: 41200130001

Status: Unutilized

Reasons: Contamination, Secured Area, Extensive deterioration

Texas

Tract No. 01-105

Hobbs House

LBJ Natl Historical Pk

Johnson City Co: Blanco TX

Landholding Agency: Interior

Property Number: 61200120023

Status: Unutilized

Reason: Extensive deterioration

Old Exchange Bldg.

U.S. Coast Guard

Galveston Co: Galveston TX 77553-3001

Landholding Agency: DOT

Property Number: 87199310012

Status: Unutilized

Reason: Secured Area

WPB Building

Station Port Isabel

Coast Guard Station

South Padre Island Co: Cameron TX 78597-6497

Landholding Agency: DOT

Property Number: 87199530002

Status: Unutilized

Reason: Floodway

Aton Shops Building

USCG Station Sabine

Sabine Co: Jefferson TX 77655-

Landholding Agency: DOT

Property Number: 87199530003

Status: Unutilized

Reasons: Within 2000 ft. of flammable or explosive material, Secured Area

WPB Storage Shed

USCG Station Sabine

Sabine Co: Jefferson TX 77655-

Landholding Agency: DOT

Property Number: 87199530004

Status: Unutilized

Reasons: Within 2000 ft. of flammable or explosive material, Secured Area

Flammable Storage Building

USCG Station Sabine

Sabine Co: Jefferson TX 77655-

Landholding Agency: DOT

Property Number: 87199530005

Status: Unutilized

Reasons: Within 2000 ft. of flammable or explosive material, Secured Area

Battery Storage Building

USCG Station Sabine

Sabine Co: Jefferson TX 77655-

Landholding Agency: DOT

Property Number: 87199530006

Status: Unutilized

Reasons: Within 2000 ft. of flammable or explosive material, Secured Area

Boat House

USCG Station Sabine

Sabine Co: Jefferson TX 77655-

Landholding Agency: DOT

Property Number: 87199530007

Status: Unutilized

Reasons: Within 2000 ft. of flammable or explosive material, Secured Area

Small Boat Pier

USCG Station Sabine

Sabine Co: Jefferson TX 77655-

Landholding Agency: DOT

Property Number: 87199530008

Status: Unutilized

Reasons: Within 2000 ft. of flammable or explosive material, Secured Area

Bldg. 108

Fort Crockett/43rd St. Housing

Galveston Co: Galveston TX 77553-

Landholding Agency: DOT

Property Number: 87199630008

Status: Unutilized

Reason: Extensive deterioration

Utah

Storage Shed/Garage

CR 212

Hovenweep Co: San Juan UT 84534-

Landholding Agency: Interior

Property Number: 61200130010

Status: Excess

Reason: Extensive deterioration

Vermont

Depot Street

Downtown at the Waterfront

Burlington Co: Chittenden VT 05401-5226

Landholding Agency: DOT

Property Number: 87199220003

Status: Excess

Reason: Floodway

Virginia

Bldg. 2331

Marine Corps Base

Quantico Co: VA

Landholding Agency: Navy

Property Number: 77200130038

Status: Excess

Reason: Extensive deterioration

Troop Housing Units

Bldg. 26129

Marine Corps Base

Quantico Co: VA

Landholding Agency: Navy

Property Number: 77200130039

Status: Excess

Reason: Extensive deterioration

Bldg. 3041

Marine Corps Base

Quantico Co: VA 22134-

Landholding Agency: Navy

Property Number: 77200130040

Status: Excess

Reason: Extensive deterioration

Bldg. 3091

Marine Corps Base

Quantico Co: VA 22134-

Landholding Agency: Navy

Property Number: 77200130041

Status: Excess

Reason: Extensive deterioration

Bldgs. 3092, 3093

Marine Corps Base

Quantico Co: VA

Landholding Agency: Navy

Property Number: 77200130042

Status: Excess

Reason: Extensive deterioration

Bldgs. 3234, 3235

Marine Corps Base

Quantico Co: VA 22134-

Landholding Agency: Navy

Property Number: 77200130043

Status: Excess

Reason: Extensive deterioration

Quonset Huts, Camp Upshur

Marine Corps Base

Quantico Co: VA

Landholding Agency: Navy

Property Number: 77200130044

Status: Unutilized

Reason: Extensive deterioration

Bldg. B107

Naval Surface Warfare Center

Dahlgren Co: King George VA 22448-5100

Landholding Agency: Navy

Property Number: 77200130045

Status: Unutilized

Reason: Extensive deterioration

Bldg. B153

Naval Surface Warfare Center

Dahlgren Co: King George VA 22448-

Landholding Agency: Navy

Property Number: 77200130046

Status: Unutilized

Reason: Extensive deterioration

Bldg. B166

Naval Surface Warfare Center

Dahlgren Co: King George VA 22448-

Landholding Agency: Navy

Property Number: 77200130047

Status: Unutilized

Reason: Extensive deterioration

Bldg. B167

Naval Surface Warfare Center

Dahlgren Co: King George VA 22448-

Landholding Agency: Navy

Property Number: 77200130048

Status: Unutilized

Reason: Extensive deterioration

Bldg. B185T

Naval Surface Warfare Center

Dahlgren Co: King George VA 22448-

Landholding Agency: Navy

Property Number: 77200130049

Status: Unutilized

Reason: Extensive deterioration

Bldg. B196

Naval Surface Warfare Center

Dahlgren Co: King George VA 22448-

Landholding Agency: Navy

Property Number: 77200130050

Status: Unutilized

Reason: Extensive deterioration

Bldg. B244

Naval Surface Warfare Center

Dahlgren Co: King George VA 22448-

Landholding Agency: Navy

Property Number: 77200130051

Status: Unutilized

Reason: Extensive deterioration

Bldg. B284

Naval Surface Warfare Center

Dahlgren Co: King George VA 22448-

Landholding Agency: Navy

Property Number: 77200130052

Status: Unutilized

Reason: Extensive deterioration

Bldg. B299

Naval Surface Warfare Center

Dahlgren Co: King George VA 22448-

Landholding Agency: Navy

Property Number: 77200130053

Status: Unutilized

Reason: Extensive deterioration

Bldg. B313

Naval Surface Warfare Center

Dahlgren Co: King George VA 22448-

Landholding Agency: Navy

Property Number: 77200130054

Status: Unutilized

Reason: Extensive deterioration

Bldg. B347

Naval Surface Warfare Center

Dahlgren Co: King George VA 22448-

Landholding Agency: Navy

Property Number: 77200130055

Status: Unutilized

Reason: Extensive deterioration

Bldg. B360

Naval Surface Warfare Center

Dahlgren Co: King George VA 22448-

Landholding Agency: Navy

Property Number: 77200130056

Status: Unutilized

Reason: Extensive deterioration

Bldg. B410

Naval Surface Warfare Center

Dahlgren Co: King George VA 22448-

Landholding Agency: Navy

Property Number: 77200130057

Status: Unutilized

Reason: Extensive deterioration

Bldg. B416

Naval Surface Warfare Center

Dahlgren Co: King George VA 22448-

Landholding Agency: Navy

Property Number: 77200130058

Status: Unutilized

Reason: Extensive deterioration

Bldg. B430

Naval Surface Warfare Center

Dahlgren Co: King George VA 22448-

Landholding Agency: Navy

Property Number: 77200130059

Status: Unutilized

Reason: Extensive deterioration

Bldg. B993

Naval Surface Warfare Center

Dahlgren Co: King George VA 22448-

Landholding Agency: Navy

Property Number: 77200130060

Status: Unutilized

Reason: Extensive deterioration

Bldg. B1119

Naval Surface Warfare Center

Dahlgren Co: King George VA 22448-

Landholding Agency: Navy

Property Number: 77200130061

Status: Unutilized

Reason: Extensive deterioration

Bldg. B1299

Naval Surface Warfare Center

Dahlgren Co: King George VA 22448-

Landholding Agency: Navy

Property Number: 77200130062

Status: Unutilized

Reason: Extensive deterioration

Bldg. B1350

Naval Surface Warfare Center

Dahlgren Co: King George VA 22448-

Landholding Agency: Navy

Property Number: 77200130063

Status: Unutilized

Reason: Extensive deterioration

Bldg. B1355

Naval Surface Warfare Center

Dahlgren Co: King George VA 22448-

Landholding Agency: Navy

Property Number: 77200130064

Status: Unutilized

Reason: Extensive deterioration

Bldg. B1376

Naval Surface Warfare Center

Dahlgren Co: King George VA 22448-

Landholding Agency: Navy

Property Number: 77200130065

Status: Unutilized

Reason: Extensive deterioration

Bldg. B1379

Naval Surface Warfare Center

Dahlgren Co: King George VA 22448-

Landholding Agency: Navy

Property Number: 77200130066

Status: Unutilized

Reason: Extensive deterioration

Bldg. B1383

Naval Surface Warfare Center

Dahlgren Co: King George VA 22448-

Landholding Agency: Navy

Property Number: 77200130067

Status: Unutilized

Reason: Extensive deterioration

Bldg. B1386

Naval Surface Warfare Center

Dahlgren Co: King George VA 22448-

Landholding Agency: Navy

Property Number: 77200130068

Status: Unutilized

Reason: Extensive deterioration

Bldg. B9406

Naval Surface Warfare Center

Dahlgren Co: King George VA 22448-

Landholding Agency: Navy

Property Number: 77200130069

Status: Unutilized

Reason: Extensive deterioration

Bldg. 052 & Tennis Court

USCG Reserve Training Center

Yorktown Co: York VA 23690-

Landholding Agency: DOT

Property Number: 87199230004

Status: Excess

Reason: Secured Area

Admin. Bldg.

Coast Guard, Group Eastern Shores

Chincoteague Co: Accomack VA 23361-510

Landholding Agency: DOT

Property Number: 87199240014

Status: Unutilized

Reason: Secured Area

Little Creek Station

Navamphib Base, West Annex, U.S. Coast Guard

Norfolk Co: Princess Anne VA 23520-

Landholding Agency: DOT

Property Number: 87199310004

Status: Unutilized

Reason: Secured Area

Operations Bldg.

U.S. Coast Guard Group Hampton Roads

Portsmouth VA 23703-

Landholding Agency: DOT

Property Number: 87199710003

Status: Unutilized

Reason: Secured Area

Bldgs. 63, 115

USCG Training Center

Yorktown Co: York VA 23690-5000

Landholding Agency: DOT

Property Number: 87200110037

Status: Unutilized

Reasons: Within 2000 ft. of flammable or explosive material, Secured Area, Extensive deterioration

Bldg. 156

USCG Training Center Yorktown

Yorktown Co: York VA 23690-5000

Landholding Agency: DOT

Property Number: 87200120015

Status: Underutilized

Reasons: Within 2000 ft. of flammable or explosive material, Secured Area

Washington

Bldg. 0074

North Cascades Natl Park Service Complex

Stehekin Co: Chelan WA 98852-

Landholding Agency: Interior

Property Number: 61200110008

Status: Unutilized

Reason: Extensive deterioration

Bldg. 0048

North Cascades Natl Park Service Complex

Stehekin Co: Chelan WA 98852-

Landholding Agency: Interior

Property Number: 61200110009

Status: Unutilized

Reason: Extensive deterioration

Bldg. 0044

North Cascades Natl Park Service Complex

Stehekin Co: Chelan WA 98852-

Landholding Agency: Interior

Property Number: 61200110010

Status: Unutilized

Reason: Extensive deterioration

Bldg. 0047

North Cascades Natl Park Service Complex

Stehekin Co: Chelan WA 98852-

Landholding Agency: Interior

Property Number: 61200110011

Status: Unutilized

Reason: Extensive deterioration

McKeller's Cabin

North Cascades Natl Park Service Complex

Stehekin Co: Chelan WA 98852-

Landholding Agency: Interior

Property Number: 61200110012

Status: Unutilized

Reason: Extensive deterioration

Bldg. 1170

North Cascades Natl Park Service Complex

Hozomeen Co: Whatcom WA 98852-

Landholding Agency: Interior

Property Number: 61200110013

Status: Unutilized

Reason: Extensive deterioration

Brundage Cabin

3003 Camp David Jr. Rd.

Port Angeles Co: Clallam WA 98362-

Landholding Agency: Interior

Property Number: 61200120014

Status: Unutilized

Reason: Extensive deterioration

Nigro Cabin

2805 East Beach Rd.

Port Angeles Co: Clallam WA 98363-

Landholding Agency: Interior

Property Number: 61200120015

Status: Unutilized

Reason: Extensive deterioration

Pistol Range Bldg.

USCG Port Angeles

Port Angeles Co: Clallam WA 98362-0159

Landholding Agency: DOT

Property Number: 87199630030

Status: Unutilized

Reasons: Within airport runway clear zone, Secured Area, Extensive deterioration

Quarters 8, 10, 12, 14

USCG Station Cape Disappointment

Ilwaco Co: Pacific WA 98624-

Landholding Agency: DOT

Property Number: 87199930001

Status: Unutilized

Reason: Extensive deterioration

Avionics Shop

Coast Guard Air Station

Port Angeles Co: Clallam WA 98362-

Landholding Agency: DOT

Property Number: 87200110023

Status: Unutilized

Reason: Secured Area

Storage Bldg.

Coast Guard Air Station

Port Angeles Co: Clallam WA 98362-

Landholding Agency: DOT

Property Number: 87200110024

Status: Underutilized

Reason: Secured Area

Maint. Work Shop

Coast Guard Air Station

Port Angeles Co: Clallam WA 98362-

Landholding Agency: DOT

Property Number: 87200110025

Status: Underutilized

Reason: Secured Area

West Virginia

Akers House

River Road

Hinton Co: Raleigh WV 25951-

Landholding Agency: Interior

Property Number: 61200120016

Status: Excess

Reason: Extensive deterioration

Wickline House

River Road

Hinton Co: Raleigh WV 25951-

Landholding Agency: Interior

Property Number: 61200120017

Status: Excess

Reason: Extensive deterioration

Burdett Cabin

Army Camp Road

Prince Co: Fayette WV 25907-

Landholding Agency: Interior

Property Number: 61200120018

Status: Excess

Reason: Extensive deterioration

Wisconsin

Rawley Point Light

Two Rivers Co: Manitowoc WI

Landholding Agency: DOT

Property Number: 87199540004

Status: Unutilized

Reasons: Secured Area Extensive deterioration

Land (by State)

Alaska

Russian Creek Aggregate Site

USCG Support Center Kodiak

Kodiak Co: Kodiak AK 99619-

Landholding Agency: DOT

Property Number: 87199440025

Status: Excess

Reason: Floodway

Sargent Creek Aggregate Site

USCG Support Center Kodiak

Kodiak Co: Kodiak AK 99619-

Landholding Agency: DOT

Property Number: 87199440026

Status: Excess

Reason: Floodway

Florida

Land—approx. 220 acres

Cape San Blas

Port St. Joe Co: Gulf FL

Landholding Agency: DOT

Property Number: 87199440018

Status: Underutilized

Reasons: Floodway Secured Area

Kentucky

Tract 4626

Barkley, Lake, Kentucky and Tennessee

Donaldson Creek Launching Area

Cadiz Co: Trigg KY 42211-

Location: 14 miles from US Highway 68.

Landholding Agency: COE

Property Number: 31199010030

Status: Underutilized

Reason: Floodway

Tract AA-2747

Wolf Creek Dam and Lake Cumberland

US HWY. 27 to Blue John Road

Burnside Co: Pulaski KY 42519-

Landholding Agency: COE

Property Number: 31199010038

Status: Underutilized

Reason: Floodway

Tract AA-2726

Wolf Creek Dam and Lake Cumberland

KY HWY. 80 to Route 769

Burnside Co: Pulaski KY 42519-

Landholding Agency: COE

Property Number: 31199010039

Status: Underutilized

Reason: Floodway

Tract 1358

Barkley Lake, Kentucky and Tennessee

Eddyville Recreation Area

Eddyville Co: Lyon KY 42038-

Location: US Highway 62 to state highway 93.

Landholding Agency: COE

Property Number: 31199010043

Status: Excess

Reason: Floodway

Red River Lake Project

Stanton Co: Powell KY 40380-

Location: Exit Mr. Parkway at the Stanton and Slade Interchange, then take SR Hand

15 north to SR 613.

Landholding Agency: COE

Property Number: 31199011684

Status: Unutilized

Reason: Floodway

Barren River Lock & Dam No. 1

Richardsville Co: Warren KY 42270-

Landholding Agency: COE

Property Number: 31199120008

Status: Unutilized

Reason: Floodway

Green River Lock & Dam No. 3

Rochester Co: Butler KY 42273-

Location: Off State Hwy. 369, which runs off of Western Ky. Parkway

Landholding Agency: COE

Property Number: 31199120009

Status: Unutilized

Reason: Floodway

Green River Lock & Dam No. 4

Woodbury Co: Butler KY 42288-

Location: Off State Hwy 403, which is off State Hwy 231

Landholding Agency: COE

Property Number: 31199120014

Status: Underutilized

Reason: Floodway

Green River Lock & Dam No. 5

Readville Co: Butler KY 42275-

Location: Off State Highway 185

Landholding Agency: COE

Property Number: 31199120015

Status: Unutilized

Reason: Floodway

Green River Lock & Dam No. 6

Brownsville Co: Edmonson KY 42210-

Location: Off State Highway 259

Landholding Agency: COE

Property Number: 31199120016

Status: Underutilized

Reason: Floodway

Vacant land west of locksite

Greenup Locks and Dam

5121 New Dam Road

Rural Co: Greenup KY 41144-

Landholding Agency: COE

Property Number: 31199120017

Status: Unutilized

Reason: Floodway

Tract 6404, Cave Run Lake

U.S. Hwy 460

Index Co: Morgan KY

Landholding Agency: COE

Property Number: 31199240005

Status: Underutilized

Reason: Floodway

Tract 6803, Cave Run Lake

State Road 1161

Pomp Co: Morgan KY

Landholding Agency: COE

Property Number: 31199240006

Status: Underutilized

Reason: Floodway

8.04 acres

Taylorsville Lake Project

Taylorsville Co: Spenser KY 40071-9801

Landholding Agency: COE

Property Number: 31199840003

Status: Unutilized

Reason: inaccessible

Patriot Boat Ramp

Land

Wade & Goose Creeks

Patriot Co: Boone KY 00000-

Landholding Agency: COE

Property Number: 31200010003

Status: Unutilized

Reason: Floodway

Maine

Parcel 2

Naval Air Station

Canam Drive

Topsham Co: Cumberland ME 04086-

Landholding Agency: Navy

Property Number: 77200130026

Status: Unutilized

Reason: Secured Area

Parcel 3

Naval Air Station

Canam Drive

Topsham Co: Cumberland ME 04086-

Landholding Agency: Navy

Property Number: 77200130027

Status: Unutilized

Reason: Secured Area

Parcel 5

Naval Air Station

Canam Drive

Topsham Co: Cumberland ME 04086-

Landholding Agency: Navy

Property Number: 77200130028

Status: Unutilized

Reason: Secured Area

Maryland

Tract 131R

Youghiogheny River Lake, Rt. 2, Box 100

Friendsville Co: Garrett MD

Landholding Agency: COE

Property Number: 31199240007

Status: Underutilized

Reason: Floodway

Michigan

Middle Marker Facility

Yipsilanti Co: Washtenaw MI 48198-

Location: 549 ft. north of intersection of Coolidge and Bradley Ave. on East side of street

Landholding Agency: DOT

Property Number: 87199120006

Status: Unutilized

Reason: Within airport runway clear zone

Minnesota

Parcel G

Pine River

Cross Lake Co: Crow Wing MN 56442-

Location: 3 miles from city of Cross Lake between highways 6 and 371.

Landholding Agency: COE

Property Number: 31199011037

Status: Excess

Reason: highway right of way

Mississippi

Parcel 1

Grenada Lake

Section 20

Grenada Co: Grenada MS 38901-0903

Landholding Agency: COE

Property Number: 31199011018

Status: Underutilized

Reason: Within airport runway clear zone

Missouri

Ditch 19, Item 2, Tract No.230

St. Francis Basin Project 2½ miles west of Malden

Co: Dunklin MO

Landholding Agency: COE

Property Number: 31199130001

Status: Unutilized

Reason: Floodway

Ohio

Mosquito Creek Lake

Everett Hull Road Boat Launch

Cortland Co: Trumbull OH 44410-9321

Landholding Agency: COE

Property Number: 31199440007

Status: Underutilized

Reason: Floodway

Mosquito Creek Lake

Housel—Craft Rd., Boat Launch

Cortland Co: Trumbull OH 44410-9321

Landholding Agency: COE

Property Number: 31199440008

Status: Underutilized

Reason: Floodway

36 Site Campground

German Church Campground

Berlin Center Co: Portage OH 44401-9707

Landholding Agency: COE

Property Number: 31199810001

Status: Unutilized

Reason: Floodway

Pennsylvania

Lock and Dam #7

Monongahela River

Greensboro Co: Greene PA

Location: Left hand side of entrance roadway to project.

Landholding Agency: COE

Property Number: 31199011564

Status: Unutilized

Reason: Floodway

Mercer Recreation Area

Shenango Lake

Transfer Co: Mercer PA 16154-

Landholding Agency: COE

Property Number: 31199810002

Status: Unutilized

Reason: Floodway

Tract No. B-212C

Upstream from Gen. Jadwin Dam & Reservoir

Honesdale Co: Wayne PA 18431-

Landholding Agency: COE

Property Number: 31200020005

Status: Unutilized

Reason: Floodway

Puerto Rico

119.3 acres

Culebra Island PR 00775-

Landholding Agency: Interior

Property Number: 61199210001

Status: Excess

Reason: Floodway

Tennessee

Brooks Bend

Cordell Hull Dam and Reservoir

Highway 85 to Brooks Bend Road

Gainesboro Co: Jackson TN 38562-

Location: Tracts 800, 802-806, 835-837, 900-902, 1000-1003, 1025

Landholding Agency: COE

Property Number: 21199040413

Status: Underutilized

Reason: Floodway

Cheatham Lock and Dam

Highway 12

Ashland City Co: Cheatham TN 37015-

Location: Tracts E-513, E-512-1 and E-512-2

Landholding Agency: COE

Property Number: 21199040415

Status: Underutilized

Reason: Floodway

Tract 6737

Blue Creek Recreation Area

Barkley Lake, Kentucky and Tennessee

Dover Co: Stewart TN 37058-

Location: U.S. Highway 79/TN Highway 761

Landholding Agency: COE

Property Number: 31199011478

Status: Underutilized

Reason: Floodway

Tracts 3102, 3105, and 3106

Brimstone Launching Area

Cordell Hull Lake and Dam Project

Gainesboro Co: Jackson TN 38562-

Location: Big Bottom Road

Landholding Agency: COE

Property Number: 31199011479

Status: Excess

Reason: Floodway

Tract 3507

Proctor Site

Cordell Hull Lake and Dam Project

Celina Co: Clay TN 38551-

Location: TN Highway 52

Landholding Agency: COE

Property Number: 31199011480

Status: Unutilized

Reason: Floodway

Tract 3721

Obey

Cordell Hull Lake and Dam Project

Celina Co: Clay TN 38551-

Location: TN Highway 53

Landholding Agency: COE

Property Number: 31199011481

Status: Unutilized

Reason: Floodway

Tracts 608, 609, 611 and 612

Sullivan Bend Launching Area

Cordell Hull Lake and Dam Project

Carthage Co: Smith TN 37030-

Location: Sullivan Bend Road

Landholding Agency: COE

Property Number: 31199011482

Status: Underutilized

Reason: Floodway

Tract 920

Indian Creek Camping Area

Cordell Hull Lake and Dam Project

Granville Co: Smith TN 38564-

Location: TN Highway 53

Landholding Agency: COE

Property Number: 31199011483

Status: Underutilized

Reason: Floodway

Tracts 1710, 1716 and 1703

Flynns Lick Launching Ramp

Cordell Hull Lake and Dam Project

Gainesboro Co: Jackson TN 38562-

Location: Whites Bend Road

Landholding Agency: COE

Property Number: 31199011484

Status: Underutilized

Reason: Floodway

Tract 1810

Wartrace Creek Launching Ramp

Cordell Hull Lake and Dam Project

Gainesboro Co: Jackson TN 38551-

Location: TN Highway 85

Landholding Agency: COE

Property Number: 31199011485

Status: Underutilized

Reason: Floodway

Tract 2524

Jennings Creek

Cordell Hull Lake and Dam Project

Gainesboro Co: Jackson TN 38562-

Location: TN Highway 85

Landholding Agency: COE

Property Number: 31199011486

Status: Unutilized

Reason: Floodway

Tracts 2905 and 2907

Webster

Cordell Hull Lake and Dam Project

Gainesboro Co: Jackson TN 38551-

Location: Big Bottom Road

Landholding Agency: COE

Property Number: 31199011487

Status: Unutilized

Reason: Floodway

Tracts 2200 and 2201

Gainesboro Airport

Cordell Hull Lake and Dam Project

Gainesboro Co: Jackson TN 38562-

Location: Big Bottom Road

Landholding Agency: COE

Property Number: 31199011488

Status: Underutilized

Reasons: Within airport runway clear zone Floodway

Tracts 710C and 712C

Sullivan Island

Cordell Hull Lake and Dam Project

Carthage Co: Smith TN 37030-

Location: Sullivan Bend Road

Landholding Agency: COE

Property Number: 31199011489

Status: Unutilized

Reason: Floodway

Tract 2403, Hensley Creek

Cordell Hull Lake and Dam Project

Gainesboro Co: Jackson TN 38562-

Location: TN Highway 85

Landholding Agency: COE

Property Number: 31199011490

Status: Unutilized

Reason: Floodway

Tracts 2117C, 2118 and 2120

Cordell Hull Lake and Dam Project

Trace Creek

Gainesboro Co: Jackson TN 38562-

Location: Brooks Ferry Road

Landholding Agency: COE

Property Number: 31199011491

Status: Unutilized

Reason: Floodway

Tracts 424, 425 and 426

Cordell Hull Lake and Dam Project

Stone Bridge

Carthage Co: Smith TN 37030-

Location: Sullivan Bend Road

Landholding Agency: COE

Property Number: 31199011492

Status: Unutilized

Reason: Floodway

Tract 517

J. Percy Priest Dam and Reservoir

Suggs Creek Embayment

Nashville Co: Davidson TN 37214-

Location: Interstate 40 to S. Mount Juliet Road.

Landholding Agency: COE

Property Number: 31199011493

Status: Underutilized

Reason: Floodway

Tract 1811

West Fork Launching Area

Smyrna Co: Rutherford TN 37167-

Location: Florence road near Enon Springs Road

Landholding Agency: COE

Property Number: 31199011494

Status: Underutilized

Reason: Floodway

Tract 1504

J. Perry Priest Dam and Reservoir

Lamon Hill Recreation Area

Smyrna Co: Rutherford TN 37167-

Location: Lamon Road

Landholding Agency: COE

Property Number: 31199011495

Status: Underutilized

Reason: Floodway

Tract 1500

J. Perry Priest Dam and Reservoir

Pools Knob Recreation

Smyrna Co: Rutherford TN 37167-

Location: Jones Mill Road

Landholding Agency: COE

Property Number: 31199011496

Status: Underutilized

Reason: Floodway

Tracts 245, 257, and 256

J. Perry Priest Dam and Reservoir

Cook Recreation Area

Nashville Co: Davidson TN 37214-

Location: 2.2 miles south of Interstate 40 near Saunders Ferry Pike.

Landholding Agency: COE

Property Number: 31199011497

Status: Underutilized

Reason: Floodway

Tracts 107, 109 and 110

Cordell Hull Lake and Dam Project

Two Prong

Carthage Co: Smith TN 37030-

Location: US Highway 85

Landholding Agency: COE

Property Number: 31199011498

Status: Unutilized

Reason: Floodway

Tracts 2919 and 2929

Cordell Hull Lake and Dam Project

Sugar Creek

Gainesboro Co: Jackson TN 38562-

Location: Sugar Creek Road

Landholding Agency: COE

Property Number: 31199011500

Status: Unutilized

Reason: Floodway

Tracts 1218 and 1204

Cordell Hull Lake and Dam Project

Granville—Alvin Yourk Road

Granville Co: Jackson TN 38564-

Landholding Agency: COE

Property Number: 31199011501

Status: Unutilized

Reason: Floodway

Tract 2100

Cordell Hull Lake and Dam Project

Galbreaths Branch

Gainesboro Co: Jackson TN 38562

Location: TN Highway 53

Landholding Agency: COE

Property Number: 31199011502

Status: Unutilized

Reason: Floodway

Tract 104 et. al.

Cordell Hull Lake and Dam Project

Horshoe Bend Launching Area

Carthage Co: Smith TN 37030-

Location: Highway 70 N

Landholding Agency: COE

Property Number: 31199011504

Status: Underutilized

Reason: Floodway

Tracts 510, 511, 513 and 514

J. Percy Priest Dam and Reservoir Project

Lebanon Co: Wilson TN 37087-

Location: Vivrett Creek Launching Area, Alvin Sperry Road

Landholding Agency: COE

Property Number: 31199120007

Status: Underutilized

Reason: Floodway

Tract A-142, Old Hickory Beach

Old Hickory Blvd.

Old Hickory Co: Davidson TN 37138-

Landholding Agency: COE

Property Number: 31199130008

Status: Underutilized

Reason: Floodway

Tract D, 7 acres

Cheatham Lock & Dam

Nashville Co: Davidson TN 37207-

Landholding Agency: COE

Property Number: 31200020006

Status: Underutilized

Reason: Floodway

Texas

Tracts 104, 105-1, 105-2 & 118

Joe Pool Lake

Co: Dallas TX

Landholding Agency: COE

Property Number: 31199010397

Status: Underutilized

Reason: Floodway

Part of Tract 201-3

Joe Pool Lake

Co: Dallas TX

Landholding Agency: COE

Property Number: 31199010398

Status: Underutilized

Reason: Floodway

Part of Tract 323

Joe Pool Lake

Co: Dallas TX

Landholding Agency: COE

Property Number: 31199010399

Status: Underutilized

Reason: Floodway

Tract 702-3

Granger Lake

Route 1, Box 172

Granger Co: Williamson TX 76530-9801

Landholding Agency: COE

Property Number: 31199010401

Status: Unutilized

Reason: Floodway

Tract 706

Granger Lake

Route 1, Box 172

Granger Co: Williamson TX 76530-9801

Landholding Agency: COE

Property Number: 31199010402

Status: Unutilized

Reason: Floodway

West Virginia

Morgantown Lock and Dam

Box 3 RD #2

Morgantown Co: Monongahelia WV 26505-

Landholding Agency: COE

Property Number: 31199011530

Status: Unutilized

Reason: Floodway

London Lock and Dam

Route 60 East

Rural Co: Kanawha WV 25126-

Location: 20 miles east of Charleston, W. Virginia.

Landholding Agency: COE

Property Number: 31199011690

Status: Unutilized

Reason: .03 acres; very narrow strip of land

Portion of Tract #101

Buckeye Creek

Sutton Co: Braxton WV 26601-

Landholding Agency: COE

Property Number: 31199810006

Status: Excess

Reason: inaccessible

[FR Doc. 01-19920 Filed 8-9-01; 8:45 am]

BILLING CODE 4210-29-P